DEPARTMENT OF AGRICULTURE

Agricultural Marketing Service

7 CFR Part 1205

[Doc. # AMS-CN-17-0003]

Cotton Board Rules and Regulations: Adjusting Supplemental Assessment on Imports (2017 Amendments)

AGENCY: Agricultural Marketing Service, USDA.

ACTION: Direct final rule.

SUMMARY: The Agricultural Marketing Service (AMS) is amending the Cotton Board Rules and Regulations, increasing the value assigned to imported cotton for the purposes of calculating supplemental assessments collected for use by the Cotton Research and Promotion Program. This amendment is required each year to ensure that assessments collected on imported cotton and the cotton content of imported products will be the same as those paid on domestically produced cotton. In addition, AMS is updating the Harmonized Tariff Schedule (HTS) statistical reporting numbers that were amended since the last assessment adjustment in 2016.

DATES: This direct rule is effective November 6, 2017, without further action or notice, unless significant adverse comment is received by October 5, 2017. If significant adverse comment is received, AMS will publish a timely withdrawal of the amendment in the Federal Register.

ADDRESSES: Written comments may be submitted to the addresses specified below. All comments will be made available to the public. Please do not include personally identifiable information (such as name, address, or other contact information) or confidential business information that you do not want publically disclosed. All comments may be posted on the Internet and can be retrieved by most Internet search engines. Comments may be submitted anonymously.

Comments, identified by AMS-CN-17-0003, may be submitted electronically through the Federal eRulemaking Portal at http://www.regulations.gov. Please follow the instructions for submitting comments. In addition, comments may be submitted by mail or hand delivery to Cotton Research and Promotion, Cotton and Tobacco Program, AMS, USDA, 100 Riverside Parkway, Suite 101, Fredericksburg, Virginia 22406. Comments should be submitted in triplicate. All comments received will be made available for public inspection at Cotton and Tobacco Program, AMS, USDA, 100 Riverside Parkway, Suite 101, Fredericksburg, Virginia 22406. A copy of this document may be found at: www.regulations.gov.

FOR FURTHER INFORMATION CONTACT: Shethir M. Riva, Director, Research and Promotion, Cotton and Tobacco Program, AMS, USDA, 100 Riverside Parkway, Suite 101, Fredericksburg, Virginia 22406, telephone (540) 361-2726, facsimile (540) 361-1199, or email at Shethir.Riva@ams.usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 Stat. 3909, November 28, 1990). These amendments contained two provisions that authorize changes in the funding procedures for the Cotton Research and Promotion Program. These provisions provide for: (1) The assessment of imported cotton and cotton products; and (2) termination of refunds to cotton producers. (Prior to the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2016 in the Federal Register (81 FR 51781) for the purpose of calculating assessments on imported cotton is $0.011012 per kilogram. Using the average weighted price received by U.S. farmers for Upland cotton for the calendar year 2016, this direct final rule would amend the new value of imported cotton to $0.011510 per kilogram to reflect the price paid by U.S. farmers for Upland cotton during 2016.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or $0.2000 cents per pound (1/500) or $0.004409 per kg or $0.4409 cents per kg. (1/226.8).

Supplemental Assessment of 5/10 of One Percent of the Value of the Cotton Converted to Kilograms

The 2016 calendar year weighted average price received by producers for Upland cotton is $0.644 per pound or $1.42 per kg. (0.644 × 2.2046).

Five tenths of one percent of the average price equals $0.007101 per kg. (1.42 × 0.005).

Total Assessment

The total assessment per kilogram of raw cotton is obtained by adding the $1 per bale equivalent assessment of $0.004409 per kg. and the supplemental assessment $0.007101 per kg., which equals $0.01151 per kg.

The current assessment on imported cotton is $0.011012 per kilogram of imported cotton. The revised assessment in this direct final rule is $0.01151, an increase of $0.000498 per kilogram. This increase reflects the increase in the average weighted price of Upland cotton received by U.S. farmers during the period January through December 2016.

Import Assessment Table in section 1205.510(b)(3) indicates the total assessment rate ($ per kilogram) due for each Harmonized Tariff Schedule (HTS) number that is subject to assessment. This table must be revised each year to reflect changes in supplemental assessment rates and any changes to the HTS numbers. In this direct final rule, AMS is amending the Import Assessment Table.

AMS believes that these amendments are necessary to ensure that assessments collected on imported cotton and the cotton content of imported products are the same as those paid on domestically produced cotton. Accordingly, changes reflected in this rule should be adopted and implemented as soon as possible since it is required by regulation.

As described in this Federal Register document, the amendment to the value used to determine the Cotton Research and Promotion Program importer assessment will be updated to reflect the assessment already paid by U.S. farmers. For the reasons mentioned above, AMS finds that publishing a proposed rule and seeking public comment is unnecessary because the change is required annually by regulation in 7 CFR 1205.510.

Also, this direct-final rulemaking furthers the objectives of Executive Order 13563, which requires that the regulatory process “promote predictability and reduce uncertainty” and “identify and use the best, most innovative, and least burdensome tools for achieving regulatory ends.”

AMS has used the direct rule rulemaking process since 2013 and has not received any adverse comments; however, if AMS does receives significant adverse comment during the comment period, it will publish, in a timely manner, a document in the Federal Register withdrawing this direct final rule. AMS will then address public comments in a subsequent proposed rule and final rule based on the proposed rule.

B. Regulatory Impact Analysis

Executive Order 13175

This action has been reviewed in accordance with the requirements of Executive Order 13175, Consultation and Coordination with Indian Tribal Governments. The review reveals that this regulation would not have substantial and direct effects on Tribal governments and would not have significant Tribal implications.

Executive Orders 12866 and 13563

Executive Orders 12866 and 13563 direct agencies to assess all costs and benefits of available regulatory alternatives and, if regulation is necessary, to select regulatory approaches that maximize net benefits (including potential economic, environmental, public health, and safety effects; distributive impacts; and equity). Executive Order 13563 emphasizes the importance of quantifying both costs and benefits, reducing costs, harmonizing rules, and promoting flexibility. The Office of Management and Budget has waived review of this action. Additionally, because this rule does not meet the definition of a significant regulatory action it does not trigger the requirements contained in Executive Order 13771. See OMB's Memorandum titled “Interim Guidance Implementing Section 2 of the Executive Order of January 30, 2017 titled `Reducing Regulation and Controlling Regulatory Costs' ” (February 2, 2017).

Executive Order 12988

This rule has been reviewed under Executive Order 12988, Civil Justice Reform. It is not intended to have retroactive effect.

The Act provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of the Secretary's ruling.

Regulatory Flexibility Act and Paperwork Reduction Act

In accordance with the Regulatory Flexibility Act (RFA) (5 U.S.C. 601-612), AMS has examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,500,000. In 2016, an estimated 20,000 importers are subject to the rules and regulations issued pursuant to the Cotton Research and Promotion Order. Most are considered small entities as defined by the Small Business Administration.

This rule would only affect importers of cotton and cotton-containing products and would increase the assessments paid by the importers under the Cotton Research and Promotion Order. The current assessment on imported cotton is $0.011012 per kilogram of imported cotton. The amended assessment would be $0.01151, which was calculated based on the 12-month weighted average of price received by U.S. cotton farmers. Section 1205.510, “Levy of assessments”, provides “The rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2015 (the last audited year), producer assessments totaled $36.06 million and importer assessments totaled $39.42 million. According to the Cotton Board, should the volume of cotton products imported into the U.S. remain at the same level in 2017, one could expect an increase of assessments by approximately $1,548,844.

Imported organic cotton and products may be exempt from assessment if eligible under section 1205.519 of the Order.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because an amendment is required to adjust the assessments collected on imported cotton and the cotton content of imported products to be the same as those paid on domestically produced cotton. Accordingly, the change in this rule, if adopted, should be implemented as soon as possible.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for part 1205 continues to read as follows:

Authority: 7 U.S.C. 2101-2118; 7 U.S.C. 7401.

2. In § 1205.510, paragraph (b)(2) and the table in paragraph (b)(3) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.151 cents per kilogram.

(3) * * *

Import Assessment Table
[Raw cotton fiber]
HTS No. | Conv. factor | Cents/kg.
5007106010 | 0.2713 | 0.3122663
5007106020 | 0.2713 | 0.3122663
5007906010 | 0.2713 | 0.3122663
5007906020 | 0.2713 | 0.3122663
5112904000 | 0.1085 | 0.1248835
5112905000 | 0.1085 | 0.1248835
5112909010 | 0.1085 | 0.1248835
5112909090 | 0.1085 | 0.1248835
5201000500 | 1 | 1.151
5201001200 | 1 | 1.151
5201001400 | 1 | 1.151
5201001800 | 1 | 1.151
5201002200 | 1 | 1.151
5201002400 | 1 | 1.151
5201002800 | 1 | 1.151
5201003400 | 1 | 1.151
5201003800 | 1 | 1.151
5204110000 | 1.0526 | 1.2115426
5204190000 | 0.6316 | 0.7269716
5204200000 | 1.0526 | 1.2115426
5205111000 | 1 | 1.151
5205112000 | 1 | 1.151
5205121000 | 1 | 1.151
5205122000 | 1 | 1.151
5205131000 | 1 | 1.151
5205132000 | 1 | 1.151
5205141000 | 1 | 1.151
5205142000 | 1 | 1.151
5205151000 | 1 | 1.151
5205152000 | 1 | 1.151
5205210020 | 1.044 | 1.201644
5205210090 | 1.044 | 1.201644
5205220020 | 1.044 | 1.201644
5205220090 | 1.044 | 1.201644
5205230020 | 1.044 | 1.201644
5205230090 | 1.044 | 1.201644
5205240020 | 1.044 | 1.201644
5205240090 | 1.044 | 1.201644
5205260020 | 1.044 | 1.201644
5205260090 | 1.044 | 1.201644
5205270020 | 1.044 | 1.201644
5205270090 | 1.044 | 1.201644
5205280020 | 1.044 | 1.201644
5205280090 | 1.044 | 1.201644
5205310000 | 1 | 1.151
5205320000 | 1 | 1.151
5205330000 | 1 | 1.151
5205340000 | 1 | 1.151
5205350000 | 1 | 1.151
5205410020 | 1.044 | 1.201644
5205410090 | 1.044 | 1.201644
5205420021 | 1.044 | 1.201644
5205420029 | 1.044 | 1.201644
5205420090 | 1.044 | 1.201644
5205430021 | 1.044 | 1.201644
5205430029 | 1.044 | 1.201644
5205430090 | 1.044 | 1.201644
5205440021 | 1.044 | 1.201644
5205440029 | 1.044 | 1.201644
5205440090 | 1.044 | 1.201644
5205460021 | 1.044 | 1.201644
5205460029 | 1.044 | 1.201644
5205460090 | 1.044 | 1.201644
5205470021 | 1.044 | 1.201644
5205470029 | 1.044 | 1.201644
5205470090 | 1.044 | 1.201644
5205480020 | 1.044 | 1.201644
5205480090 | 1.044 | 1.201644
5206110000 | 0.7368 | 0.8480568
5206120000 | 0.7368 | 0.8480568
5206130000 | 0.7368 | 0.8480568
5206140000 | 0.7368 | 0.8480568
5206150000 | 0.7368 | 0.8480568
5206210000 | 0.7692 | 0.8853492
5206220000 | 0.7692 | 0.8853492
5206230000 | 0.7692 | 0.8853492
5206240000 | 0.7692 | 0.8853492
5206250000 | 0.7692 | 0.8853492
5206310000 | 0.7368 | 0.8480568
5206320000 | 0.7368 | 0.8480568
5206330000 | 0.7368 | 0.8480568
5206340000 | 0.7368 | 0.8480568
5206350000 | 0.7368 | 0.8480568
5206410000 | 0.7692 | 0.8853492
5206420000 | 0.7692 | 0.8853492
5206430000 | 0.7692 | 0.8853492
5206440000 | 0.7692 | 0.8853492
5206450000 | 0.7692 | 0.8853492
5207100000 | 0.9474 | 1.0904574
5207900000 | 0.6316 | 0.7269716
5208112020 | 1.0852 | 1.2490652
5208112040 | 1.0852 | 1.2490652
5208112090 | 1.0852 | 1.2490652
5208114020 | 1.0852 | 1.2490652
5208114040 | 1.0852 | 1.2490652
5208114060 | 1.0852 | 1.2490652
5208114090 | 1.0852 | 1.2490652
5208116000 | 1.0852 | 1.2490652
5208118020 | 1.0852 | 1.2490652
5208118090 | 1.0852 | 1.2490652
5208124020 | 1.0852 | 1.2490652
5208124040 | 1.0852 | 1.2490652
5208124090 | 1.0852 | 1.2490652
5208126020 | 1.0852 | 1.2490652
5208126040 | 1.0852 | 1.2490652
5208126060 | 1.0852 | 1.2490652
5208126090 | 1.0852 | 1.2490652
5208128020 | 1.0852 | 1.2490652
5208128090 | 1.0852 | 1.2490652
5208130000 | 1.0852 | 1.2490652
5208192020 | 1.0852 | 1.2490652
5208192090 | 1.0852 | 1.2490652
5208194020 | 1.0852 | 1.2490652
5208194090 | 1.0852 | 1.2490652
5208196020 | 1.0852 | 1.2490652
5208196090 | 1.0852 | 1.2490652
5208198020 | 1.0852 | 1.2490652
5208198090 | 1.0852 | 1.2490652
5208212020 | 1.0852 | 1.2490652
5208212040 | 1.0852 | 1.2490652
5208212090 | 1.0852 | 1.2490652
5208214020 | 1.0852 | 1.2490652
5208214040 | 1.0852 | 1.2490652
5208214060 | 1.0852 | 1.2490652
5208214090 | 1.0852 | 1.2490652
5208216020 | 1.0852 | 1.2490652
5208216090 | 1.0852 | 1.2490652
5208224020 | 1.0852 | 1.2490652
5208224040 | 1.0852 | 1.2490652
5208224090 | 1.0852 | 1.2490652
5208226020 | 1.0852 | 1.2490652
5208226040 | 1.0852 | 1.2490652
5208226060 | 1.0852 | 1.2490652
5208226090 | 1.0852 | 1.2490652
5208228020 | 1.0852 | 1.2490652
5208228090 | 1.0852 | 1.2490652
5208230000 | 1.0852 | 1.2490652
5208292020 | 1.0852 | 1.2490652
5208292090 | 1.0852 | 1.2490652
5208294020 | 1.0852 | 1.2490652
5208294090 | 1.0852 | 1.2490652
5208296020 | 1.0852 | 1.2490652
5208296090 | 1.0852 | 1.2490652
5208298020 | 1.0852 | 1.2490652
5208298090 | 1.0852 | 1.2490652
5208312000 | 1.0852 | 1.2490652
5208314020 | 1.0852 | 1.2490652
5208314040 | 1.0852 | 1.2490652
5208314090 | 1.0852 | 1.2490652
5208316020 | 1.0852 | 1.2490652
5208316040 | 1.0852 | 1.2490652
5208316060 | 1.0852 | 1.2490652
5208316090 | 1.0852 | 1.2490652
5208318020 | 1.0852 | 1.2490652
5208318090 | 1.0852 | 1.2490652
5208321000 | 1.0852 | 1.2490652
5208323020 | 1.0852 | 1.2490652
5208323040 | 1.0852 | 1.2490652
5208323090 | 1.0852 | 1.2490652
5208324020 | 1.0852 | 1.2490652
5208324040 | 1.0852 | 1.2490652
5208324060 | 1.0852 | 1.2490652
5208324090 | 1.0852 | 1.2490652
5208325020 | 1.0852 | 1.2490652
5208325090 | 1.0852 | 1.2490652
5208330000 | 1.0852 | 1.2490652
5208392020 | 1.0852 | 1.2490652
5208392090 | 1.0852 | 1.2490652
5208394020 | 1.0852 | 1.2490652
5208394090 | 1.0852 | 1.2490652
5208396020 | 1.0852 | 1.2490652
5208396090 | 1.0852 | 1.2490652
5208398020 | 1.0852 | 1.2490652
5208398090 | 1.0852 | 1.2490652
5208412000 | 1.0852 | 1.2490652
5208414000 | 1.0852 | 1.2490652
5208416000 | 1.0852 | 1.2490652
5208418000 | 1.0852 | 1.2490652
5208421000 | 1.0852 | 1.2490652
5208423000 | 1.0852 | 1.2490652
5208424000 | 1.0852 | 1.2490652
5208425000 | 1.0852 | 1.2490652
5208430000 | 1.0852 | 1.2490652
5208492000 | 1.0852 | 1.2490652
5208494010 | 1.0852 | 1.2490652
5208494020 | 1.0852 | 1.2490652
5208494090 | 1.0852 | 1.2490652
5208496010 | 1.0852 | 1.2490652
5208496020 | 1.0852 | 1.2490652
5208496030 | 1.0852 | 1.2490652
5208496090 | 1.0852 | 1.2490652
5208498020 | 1.0852 | 1.2490652
5208498090 | 1.0852 | 1.2490652
5208512000 | 1.0852 | 1.2490652
5208514020 | 1.0852 | 1.2490652
5208514040 | 1.0852 | 1.2490652
5208514090 | 1.0852 | 1.2490652
5208516020 | 1.0852 | 1.2490652
5208516040 | 1.0852 | 1.2490652
5208516060 | 1.0852 | 1.2490652
5208516090 | 1.0852 | 1.2490652
5208518020 | 1.0852 | 1.2490652
5208518090 | 1.0852 | 1.2490652
5208521000 | 1.0852 | 1.2490652
5208523020 | 1.0852 | 1.2490652
5208523035 | 1.0852 | 1.2490652
5208523045 | 1.0852 | 1.2490652
5208523090 | 1.0852 | 1.2490652
5208524020 | 1.0852 | 1.2490652
5208524035 | 1.0852 | 1.2490652
5208524045 | 1.0852 | 1.2490652
5208524055 | 1.0852 | 1.2490652
5208524065 | 1.0852 | 1.2490652
5208524090 | 1.0852 | 1.2490652
5208525020 | 1.0852 | 1.2490652
5208525090 | 1.0852 | 1.2490652
5208591000 | 1.0852 | 1.2490652
5208592015 | 1.0852 | 1.2490652
5208592025 | 1.0852 | 1.2490652
5208592085 | 1.0852 | 1.2490652
5208592095 | 1.0852 | 1.2490652
5208594020 | 1.0852 | 1.2490652
5208594090 | 1.0852 | 1.2490652
5208596020 | 1.0852 | 1.2490652
5208596090 | 1.0852 | 1.2490652
5208598020 | 1.0852 | 1.2490652
5208598090 | 1.0852 | 1.2490652
5209110020 | 1.0309 | 1.1865659
5209110025 | 1.0309 | 1.1865659
5209110035 | 1.0309 | 1.1865659
5209110050 | 1.0309 | 1.1865659
5209110090 | 1.0309 | 1.1865659
5209120020 | 1.0309 | 1.1865659
5209120040 | 1.0309 | 1.1865659
5209190020 | 1.0309 | 1.1865659
5209190040 | 1.0309 | 1.1865659
5209190060 | 1.0309 | 1.1865659
5209190090 | 1.0309 | 1.1865659
5209210020 | 1.0309 | 1.1865659
5209210025 | 1.0309 | 1.1865659
5209210035 | 1.0309 | 1.1865659
5209210050 | 1.0309 | 1.1865659
5209210090 | 1.0309 | 1.1865659
5209220020 | 1.0309 | 1.1865659
5209220040 | 1.0309 | 1.1865659
5209290020 | 1.0309 | 1.1865659
5209290040 | 1.0309 | 1.1865659
5209290060 | 1.0309 | 1.1865659
5209290090 | 1.0309 | 1.1865659
5209313000 | 1.0309 | 1.1865659
5209316020 | 1.0309 | 1.1865659
5209316025 | 1.0309 | 1.1865659
5209316035 | 1.0309 | 1.1865659
5209316050 | 1.0309 | 1.1865659
5209316090 | 1.0309 | 1.1865659
5209320020 | 1.0309 | 1.1865659
5209320040 | 1.0309 | 1.1865659
5209390020 | 1.0309 | 1.1865659
5209390040 | 1.0309 | 1.1865659
5209390060 | 1.0309 | 1.1865659
5209390080 | 1.0309 | 1.1865659
5209390090 | 1.0309 | 1.1865659
5209413000 | 1.0309 | 1.1865659
5209416020 | 1.0309 | 1.1865659
5209416040 | 1.0309 | 1.1865659
5209420020 | 0.9767 | 1.1241817
5209420040 | 0.9767 | 1.1241817
5209420060 | 0.9767 | 1.1241817
5209420080 | 0.9767 | 1.1241817
5209430030 | 1.0309 | 1.1865659
5209430050 | 1.0309 | 1.1865659
5209490020 | 1.0309 | 1.1865659
5209490040 | 1.0309 | 1.1865659
5209490090 | 1.0309 | 1.1865659
5209513000 | 1.0309 | 1.1865659
5209516015 | 1.0852 | 1.2490652
5209516025 | 1.0852 | 1.2490652
5209516032 | 1.0852 | 1.2490652
5209516035 | 1.0852 | 1.2490652
5209516050 | 1.0852 | 1.2490652
5209516090 | 1.0852 | 1.2490652
5209520020 | 1.0852 | 1.2490652
5209520040 | 1.0852 | 1.2490652
5209590015 | 1.0852 | 1.2490652
5209590025 | 1.0852 | 1.2490652
5209590040 | 1.0852 | 1.2490652
5209590060 | 1.0852 | 1.2490652
5209590090 | 1.0852 | 1.2490652
5210114020 | 0.6511 | 0.7494161
5210114040 | 0.6511 | 0.7494161
5210114090 | 0.6511 | 0.7494161
5210116020 | 0.6511 | 0.7494161
5210116040 | 0.6511 | 0.7494161
5210116060 | 0.6511 | 0.7494161
5210116090 | 0.6511 | 0.7494161
5210118020 | 0.6511 | 0.7494161
5210118090 | 0.6511 | 0.7494161
5210191000 | 0.6511 | 0.7494161
5210192020 | 0.6511 | 0.7494161
5210192090 | 0.6511 | 0.7494161
5210194020 | 0.6511 | 0.7494161
5210194090 | 0.6511 | 0.7494161
5210196020 | 0.6511 | 0.7494161
5210196090 | 0.6511 | 0.7494161
5210198020 | 0.6511 | 0.7494161
5210198090 | 0.6511 | 0.7494161
5210214020 | 0.6511 | 0.7494161
5210214040 | 0.6511 | 0.7494161
5210214090 | 0.6511 | 0.7494161
5210216020 | 0.6511 | 0.7494161
5210216040 | 0.6511 | 0.7494161
5210216060 | 0.6511 | 0.7494161
5210216090 | 0.6511 | 0.7494161
5210218020 | 0.6511 | 0.7494161
5210218090 | 0.6511 | 0.7494161
5210291000 | 0.6511 | 0.7494161
5210292020 | 0.6511 | 0.7494161
5210292090 | 0.6511 | 0.7494161
5210294020 | 0.6511 | 0.7494161
5210294090 | 0.6511 | 0.7494161
5210296020 | 0.6511 | 0.7494161
5210296090 | 0.6511 | 0.7494161
5210298020 | 0.6511 | 0.7494161
5210298090 | 0.6511 | 0.7494161
5210314020 | 0.6511 | 0.7494161
5210314040 | 0.6511 | 0.7494161
5210314090 | 0.6511 | 0.7494161
5210316020 | 0.6511 | 0.7494161
5210316040 | 0.6511 | 0.7494161
5210316060 | 0.6511 | 0.7494161
5210316090 | 0.6511 | 0.7494161
5210318020 | 0.6511 | 0.7494161
5210318090 | 0.6511 | 0.7494161
5210320000 | 0.6511 | 0.7494161
5210392020 | 0.6511 | 0.7494161
5210392090 | 0.6511 | 0.7494161
5210394020 | 0.6511 | 0.7494161
5210394090 | 0.6511 | 0.7494161
5210396020 | 0.6511 | 0.7494161
5210396090 | 0.6511 | 0.7494161
5210398020 | 0.6511 | 0.7494161
5210398090 | 0.6511 | 0.7494161
5210414000 | 0.6511 | 0.7494161
5210416000 | 0.6511 | 0.7494161
5210418000 | 0.6511 | 0.7494161
5210491000 | 0.6511 | 0.7494161
5210492000 | 0.6511 | 0.7494161
5210494010 | 0.6511 | 0.7494161
5210494020 | 0.6511 | 0.7494161
5210494090 | 0.6511 | 0.7494161
5210496010 | 0.6511 | 0.7494161
5210496020 | 0.6511 | 0.7494161
5210496090 | 0.6511 | 0.7494161
5210498020 | 0.6511 | 0.7494161
5210498090 | 0.6511 | 0.7494161
5210514020 | 0.6511 | 0.7494161
5210514040 | 0.6511 | 0.7494161
5210514090 | 0.6511 | 0.7494161
5210516020 | 0.6511 | 0.7494161
5210516040 | 0.6511 | 0.7494161
5210516060 | 0.6511 | 0.7494161
5210516090 | 0.6511 | 0.7494161
5210518020 | 0.6511 | 0.7494161
5210518090 | 0.6511 | 0.7494161
5210591000 | 0.6511 | 0.7494161
5210592020 | 0.6511 | 0.7494161
5210592090 | 0.6511 | 0.7494161
5210594020 | 0.6511 | 0.7494161
5210594090 | 0.6511 | 0.7494161
5210596020 | 0.6511 | 0.7494161
5210596090 | 0.6511 | 0.7494161
5210598020 | 0.6511 | 0.7494161
5210598090 | 0.6511 | 0.7494161
5211110020 | 0.6511 | 0.7494161
5211110025 | 0.6511 | 0.7494161
5211110035 | 0.6511 | 0.7494161
5211110050 | 0.6511 | 0.7494161
5211110090 | 0.6511 | 0.7494161
5211120020 | 0.6511 | 0.7494161
5211120040 | 0.6511 | 0.7494161
5211190020 | 0.6511 | 0.7494161
5211190040 | 0.6511 | 0.7494161
5211190060 | 0.6511 | 0.7494161
5211190090 | 0.6511 | 0.7494161
5211202120 | 0.6511 | 0.7494161
5211202125 | 0.6511 | 0.7494161
5211202135 | 0.6511 | 0.7494161
5211202150 | 0.6511 | 0.7494161
5211202190 | 0.6511 | 0.7494161
5211202220 | 0.6511 | 0.7494161
5211202240 | 0.6511 | 0.7494161
5211202920 | 0.6511 | 0.7494161
5211202940 | 0.6511 | 0.7494161
5211202960 | 0.6511 | 0.7494161
5211202990 | 0.6511 | 0.7494161
5211310020 | 0.6511 | 0.7494161
5211310025 | 0.6511 | 0.7494161
5211310035 | 0.6511 | 0.7494161
5211310050 | 0.6511 | 0.7494161
5211310090 | 0.6511 | 0.7494161
5211320020 | 0.6511 | 0.7494161
5211320040 | 0.6511 | 0.7494161
5211390020 | 0.6511 | 0.7494161
5211390040 | 0.6511 | 0.7494161
5211390060 | 0.6511 | 0.7494161
5211390090 | 0.6511 | 0.7494161
5211410020 | 0.6511 | 0.7494161
5211410040 | 0.6511 | 0.7494161
5211420020 | 0.7054 | 0.8119154
5211420040 | 0.7054 | 0.8119154
5211420060 | 0.6511 | 0.7494161
5211420080 | 0.6511 | 0.7494161
5211430030 | 0.6511 | 0.7494161
5211430050 | 0.6511 | 0.7494161
5211490020 | 0.6511 | 0.7494161
5211490090 | 0.6511 | 0.7494161
5211510020 | 0.6511 | 0.7494161
5211510030 | 0.6511 | 0.7494161
5211510050 | 0.6511 | 0.7494161
5211510090 | 0.6511 | 0.7494161
5211520020 | 0.6511 | 0.7494161
5211520040 | 0.6511 | 0.7494161
5211590015 | 0.6511 | 0.7494161
5211590025 | 0.6511 | 0.7494161
5211590040 | 0.6511 | 0.7494161
5211590060 | 0.6511 | 0.7494161
5211590090 | 0.6511 | 0.7494161
5212111010 | 0.5845 | 0.6727595
5212111020 | 0.6231 | 0.7171881
5212116010 | 0.8681 | 0.9991831
5212116020 | 0.8681 | 0.9991831
5212116030 | 0.8681 | 0.9991831
5212116040 | 0.8681 | 0.9991831
5212116050 | 0.8681 | 0.9991831
5212116060 | 0.8681 | 0.9991831
5212116070 | 0.8681 | 0.9991831
5212116080 | 0.8681 | 0.9991831
5212116090 | 0.8681 | 0.9991831
5212121010 | 0.5845 | 0.6727595
5212121020 | 0.6231 | 0.7171881
5212126010 | 0.8681 | 0.9991831
5212126020 | 0.8681 | 0.9991831
5212126030 | 0.8681 | 0.9991831
5212126040 | 0.8681 | 0.9991831
5212126050 | 0.8681 | 0.9991831
5212126060 | 0.8681 | 0.9991831
5212126070 | 0.8681 | 0.9991831
5212126080 | 0.8681 | 0.9991831
5212126090 | 0.8681 | 0.9991831
5212131010 | 0.5845 | 0.6727595
5212131020 | 0.6231 | 0.7171881
5212136010 | 0.8681 | 0.9991831
5212136020 | 0.8681 | 0.9991831
5212136030 | 0.8681 | 0.9991831
5212136040 | 0.8681 | 0.9991831
5212136050 | 0.8681 | 0.9991831
5212136060 | 0.8681 | 0.9991831
5212136070 | 0.8681 | 0.9991831
5212136080 | 0.8681 | 0.9991831
5212136090 | 0.8681 | 0.9991831
5212141010 | 0.5845 | 0.6727595
5212141020 | 0.6231 | 0.7171881
5212146010 | 0.8681 | 0.9991831
5212146020 | 0.8681 | 0.9991831
5212146030 | 0.8681 | 0.9991831
5212146090 | 0.8681 | 0.9991831
5212151010 | 0.5845 | 0.6727595
5212151020 | 0.6231 | 0.7171881
5212156010 | 0.8681 | 0.9991831
5212156020 | 0.8681 | 0.9991831
5212156030 | 0.8681 | 0.9991831
5212156040 | 0.8681 | 0.9991831
5212156050 | 0.8681 | 0.9991831
5212156060 | 0.8681 | 0.9991831
5212156070 | 0.8681 | 0.9991831
5212156080 | 0.8681 | 0.9991831
5212156090 | 0.8681 | 0.9991831
5212211010 | 0.5845 | 0.6727595
5212211020 | 0.6231 | 0.7171881
5212216010 | 0.8681 | 0.9991831
5212216020 | 0.8681 | 0.9991831
5212216030 | 0.8681 | 0.9991831
5212216040 | 0.8681 | 0.9991831
5212216050 | 0.8681 | 0.9991831
5212216060 | 0.8681 | 0.9991831
5212216090 | 0.8681 | 0.9991831
5212221010 | 0.5845 | 0.6727595
5212221020 | 0.6231 | 0.7171881
5212226010 | 0.8681 | 0.9991831
5212226020 | 0.8681 | 0.9991831
5212226030 | 0.8681 | 0.9991831
5212226040 | 0.8681 | 0.9991831
5212226050 | 0.8681 | 0.9991831
5212226060 | 0.8681 | 0.9991831
5212226090 | 0.8681 | 0.9991831
5212231010 | 0.5845 | 0.6727595
5212231020 | 0.6231 | 0.7171881
5212236010 | 0.8681 | 0.9991831
5212236020 | 0.8681 | 0.9991831
5212236030 | 0.8681 | 0.9991831
5212236040 | 0.8681 | 0.9991831
5212236050 | 0.8681 | 0.9991831
5212236060 | 0.8681 | 0.9991831
5212236090 | 0.8681 | 0.9991831
5212241010 | 0.5845 | 0.6727595
5212241020 | 0.6231 | 0.7171881
5212246010 | 0.8681 | 0.9991831
5212246020 | 0.7054 | 0.8119154
5212246030 | 0.8681 | 0.9991831
5212246040 | 0.8681 | 0.9991831
5212246090 | 0.8681 | 0.9991831
5212251010 | 0.5845 | 0.6727595
5212251020 | 0.6231 | 0.7171881
5212256010 | 0.8681 | 0.9991831
5212256020 | 0.8681 | 0.9991831
5212256030 | 0.8681 | 0.9991831
5212256040 | 0.8681 | 0.9991831
5212256050 | 0.8681 | 0.9991831
5212256060 | 0.8681 | 0.9991831
5212256090 | 0.8681 | 0.9991831
5309213005 | 0.5426 | 0.6245326
5309213010 | 0.5426 | 0.6245326
5309213015 | 0.5426 | 0.6245326
5309213020 | 0.5426 | 0.6245326
5309214010 | 0.2713 | 0.3122663
5309214090 | 0.2713 | 0.3122663
5309293005 | 0.5426 | 0.6245326
5309293010 | 0.5426 | 0.6245326
5309293015 | 0.5426 | 0.6245326
5309293020 | 0.5426 | 0.6245326
5309294010 | 0.2713 | 0.3122663
5309294090 | 0.2713 | 0.3122663
5311003005 | 0.5426 | 0.6245326
5311003010 | 0.5426 | 0.6245326
5311003015 | 0.5426 | 0.6245326
5311003020 | 0.5426 | 0.6245326
5311004010 | 0.8681 | 0.9991831
5311004020 | 0.8681 | 0.9991831
5407810010 | 0.5426 | 0.6245326
5407810020 | 0.5426 | 0.6245326
5407810030 | 0.5426 | 0.6245326
5407810040 | 0.5426 | 0.6245326
5407810090 | 0.5426 | 0.6245326
5407820010 | 0.5426 | 0.6245326
5407820020 | 0.5426 | 0.6245326
5407820030 | 0.5426 | 0.6245326
5407820040 | 0.5426 | 0.6245326
5407820090 | 0.5426 | 0.6245326
5407830010 | 0.5426 | 0.6245326
5407830020 | 0.5426 | 0.6245326
5407830030 | 0.5426 | 0.6245326
5407830040 | 0.5426 | 0.6245326
5407830090 | 0.5426 | 0.6245326
5407840010 | 0.5426 | 0.6245326
5407840020 | 0.5426 | 0.6245326
5407840030 | 0.5426 | 0.6245326
5407840040 | 0.5426 | 0.6245326
5407840090 | 0.5426 | 0.6245326
5509210000 | 0.1053 | 0.1212003
5509220010 | 0.1053 | 0.1212003
5509220090 | 0.1053 | 0.1212003
5509530030 | 0.3158 | 0.3634858
5509530060 | 0.3158 | 0.3634858
5509620000 | 0.5263 | 0.6057713
5509920000 | 0.5263 | 0.6057713
5510300000 | 0.3684 | 0.4240284
5511200000 | 0.3158 | 0.3634858
5512110010 | 0.1085 | 0.1248835
5512110022 | 0.1085 | 0.1248835
5512110027 | 0.1085 | 0.1248835
5512110030 | 0.1085 | 0.1248835
5512110040 | 0.1085 | 0.1248835
5512110050 | 0.1085 | 0.1248835
5512110060 | 0.1085 | 0.1248835
5512110070 | 0.1085 | 0.1248835
5512110090 | 0.1085 | 0.1248835
5512190005 | 0.1085 | 0.1248835
5512190010 | 0.1085 | 0.1248835
5512190015 | 0.1085 | 0.1248835
5512190022 | 0.1085 | 0.1248835
5512190027 | 0.1085 | 0.1248835
5512190030 | 0.1085 | 0.1248835
5512190035 | 0.1085 | 0.1248835
5512190040 | 0.1085 | 0.1248835
5512190045 | 0.1085 | 0.1248835
5512190050 | 0.1085 | 0.1248835
5512190090 | 0.1085 | 0.1248835
5512210010 | 0.0326 | 0.0375226
5512210020 | 0.0326 | 0.0375226
5512210030 | 0.0326 | 0.0375226
5512210040 | 0.0326 | 0.0375226
5512210060 | 0.0326 | 0.0375226
5512210070 | 0.0326 | 0.0375226
5512210090 | 0.0326 | 0.0375226
5512290010 | 0.217 | 0.249767
5512910010 | 0.0543 | 0.0624993
5512990005 | 0.0543 | 0.0624993
5512990010 | 0.0543 | 0.0624993
5512990015 | 0.0543 | 0.0624993
5512990020 | 0.0543 | 0.0624993
5512990025 | 0.0543 | 0.0624993
5512990030 | 0.0543 | 0.0624993
5512990035 | 0.0543 | 0.0624993
5512990040 | 0.0543 | 0.0624993
5512990045 | 0.0543 | 0.0624993
5512990090 | 0.0543 | 0.0624993
5513110020 | 0.3581 | 0.4121731
5513110040 | 0.3581 | 0.4121731
5513110060 | 0.3581 | 0.4121731
5513110090 | 0.3581 | 0.4121731
5513120000 | 0.3581 | 0.4121731
5513130020 | 0.3581 | 0.4121731
5513130040 | 0.3581 | 0.4121731
5513130090 | 0.3581 | 0.4121731
5513190010 | 0.3581 | 0.4121731
5513190020 | 0.3581 | 0.4121731
5513190030 | 0.3581 | 0.4121731
5513190040 | 0.3581 | 0.4121731
5513190050 | 0.3581 | 0.4121731
5513190060 | 0.3581 | 0.4121731
5513190090 | 0.3581 | 0.4121731
5513210020 | 0.3581 | 0.4121731
5513210040 | 0.3581 | 0.4121731
5513210060 | 0.3581 | 0.4121731
5513210090 | 0.3581 | 0.4121731
5513230121 | 0.3581 | 0.4121731
5513230141 | 0.3581 | 0.4121731
5513230191 | 0.3581 | 0.4121731
5513290010 | 0.3581 | 0.4121731
5513290020 | 0.3581 | 0.4121731
5513290030 | 0.3581 | 0.4121731
5513290040 | 0.3581 | 0.4121731
5513290050 | 0.3581 | 0.4121731
5513290060 | 0.3581 | 0.4121731
5513290090 | 0.3581 | 0.4121731
5513310000 | 0.3581 | 0.4121731
5513390111 | 0.3581 | 0.4121731
5513390115 | 0.3581 | 0.4121731
5513390191 | 0.3581 | 0.4121731
5513410020 | 0.3581 | 0.4121731
5513410040 | 0.3581 | 0.4121731
5513410060 | 0.3581 | 0.4121731
5513410090 | 0.3581 | 0.4121731
5513491000 | 0.3581 | 0.4121731
5513492020 | 0.3581 | 0.4121731
5513492040 | 0.3581 | 0.4121731
5513492090 | 0.3581 | 0.4121731
5513499010 | 0.3581 | 0.4121731
5513499020 | 0.3581 | 0.4121731
5513499030 | 0.3581 | 0.4121731
5513499040 | 0.3581 | 0.4121731
5513499050 | 0.3581 | 0.4121731
5513499060 | 0.3581 | 0.4121731
5513499090 | 0.3581 | 0.4121731
5514110020 | 0.4341 | 0.4996491
5514110030 | 0.4341 | 0.4996491
5514110050 | 0.4341 | 0.4996491
5514110090 | 0.4341 | 0.4996491
5514120020 | 0.4341 | 0.4996491
5514120040 | 0.4341 | 0.4996491
5514191020 | 0.4341 | 0.4996491
5514191040 | 0.4341 | 0.4996491
5514191090 | 0.4341 | 0.4996491
5514199010 | 0.4341 | 0.4996491
5514199020 | 0.4341 | 0.4996491
5514199030 | 0.4341 | 0.4996491
5514199040 | 0.4341 | 0.4996491
5514199090 | 0.4341 | 0.4996491
5514210020 | 0.4341 | 0.4996491
5514210030 | 0.4341 | 0.4996491
5514210050 | 0.4341 | 0.4996491
5514210090 | 0.4341 | 0.4996491
5514220020 | 0.4341 | 0.4996491
5514220040 | 0.4341 | 0.4996491
5514230020 | 0.4341 | 0.4996491
5514230040 | 0.4341 | 0.4996491
5514230090 | 0.4341 | 0.4996491
5514290010 | 0.4341 | 0.4996491
5514290020 | 0.4341 | 0.4996491
5514290030 | 0.4341 | 0.4996491
5514290040 | 0.4341 | 0.4996491
5514290090 | 0.4341 | 0.4996491
5514303100 | 0.4341 | 0.4996491
5514303210 | 0.4341 | 0.4996491
5514303215 | 0.4341 | 0.4996491
5514303280 | 0.4341 | 0.4996491
5514303310 | 0.4341 | 0.4996491
5514303390 | 0.4341 | 0.4996491
5514303910 | 0.4341 | 0.4996491
5514303920 | 0.4341 | 0.4996491
5514303990 | 0.4341 | 0.4996491
5514410020 | 0.4341 | 0.4996491
5514410030 | 0.4341 | 0.4996491
5514410050 | 0.4341 | 0.4996491
5514410090 | 0.4341 | 0.4996491
5514420020 | 0.4341 | 0.4996491
5514420040 | 0.4341 | 0.4996491
5514430020 | 0.4341 | 0.4996491
5514430040 | 0.4341 | 0.4996491
5514430090 | 0.4341 | 0.4996491
5514490010 | 0.4341 | 0.4996491
5514490020 | 0.4341 | 0.4996491
5514490030 | 0.4341 | 0.4996491
5514490040 | 0.4341 | 0.4996491
5514490090 | 0.4341 | 0.4996491
5515110005 | 0.1085 | 0.1248835
5515110010 | 0.1085 | 0.1248835
5515110015 | 0.1085 | 0.1248835
5515110020 | 0.1085 | 0.1248835
5515110025 | 0.1085 | 0.1248835
5515110030 | 0.1085 | 0.1248835
5515110035 | 0.1085 | 0.1248835
5515110040 | 0.1085 | 0.1248835
5515110045 | 0.1085 | 0.1248835
5515110090 | 0.1085 | 0.1248835
5515120010 | 0.1085 | 0.1248835
5515120022 | 0.1085 | 0.1248835
5515120027 | 0.1085 | 0.1248835
5515120030 | 0.1085 | 0.1248835
5515120040 | 0.1085 | 0.1248835
5515120090 | 0.1085 | 0.1248835
5515190005 | 0.1085 | 0.1248835
5515190010 | 0.1085 | 0.1248835
5515190015 | 0.1085 | 0.1248835
5515190020 | 0.1085 | 0.1248835
5515190025 | 0.1085 | 0.1248835
5515190030 | 0.1085 | 0.1248835
5515190035 | 0.1085 | 0.1248835
5515190040 | 0.1085 | 0.1248835
5515190045 | 0.1085 | 0.1248835
5515190090 | 0.1085 | 0.1248835
5515290005 | 0.1085 | 0.1248835
5515290010 | 0.1085 | 0.1248835
5515290015 | 0.1085 | 0.1248835
5515290020 | 0.1085 | 0.1248835
5515290025 | 0.1085 | 0.1248835
5515290030 | 0.1085 | 0.1248835
5515290035 | 0.1085 | 0.1248835
5515290040 | 0.1085 | 0.1248835
5515290045 | 0.1085 | 0.1248835
5515290090 | 0.1085 | 0.1248835
5515999005 | 0.1085 | 0.1248835
5515999010 | 0.1085 | 0.1248835
5515999015 | 0.1085 | 0.1248835
5515999020 | 0.1085 | 0.1248835
5515999025 | 0.1085 | 0.1248835
5515999030 | 0.1085 | 0.1248835
5515999035 | 0.1085 | 0.1248835
5515999040 | 0.1085 | 0.1248835
5515999045 | 0.1085 | 0.1248835
5515999090 | 0.1085 | 0.1248835
5516210010 | 0.1085 | 0.1248835
5516210020 | 0.1085 | 0.1248835
5516210030 | 0.1085 | 0.1248835
5516210040 | 0.1085 | 0.1248835
5516210090 | 0.1085 | 0.1248835
5516220010 | 0.1085 | 0.1248835
5516220020 | 0.1085 | 0.1248835
5516220030 | 0.1085 | 0.1248835
5516220040 | 0.1085 | 0.1248835
5516220090 | 0.1085 | 0.1248835
5516230010 | 0.1085 | 0.1248835
5516230020 | 0.1085 | 0.1248835
5516230030 | 0.1085 | 0.1248835
5516230040 | 0.1085 | 0.1248835
5516230090 | 0.1085 | 0.1248835
5516240010 | 0.1085 | 0.1248835
5516240020 | 0.1085 | 0.1248835
5516240030 | 0.1085 | 0.1248835
5516240040 | 0.1085 | 0.1248835
5516240085 | 0.1085 | 0.1248835
5516240095 | 0.1085 | 0.1248835
5516410010 | 0.3798 | 0.4371498
5516410022 | 0.3798 | 0.4371498
5516410027 | 0.3798 | 0.4371498
5516410030 | 0.3798 | 0.4371498
5516410040 | 0.3798 | 0.4371498
5516410050 | 0.3798 | 0.4371498
5516410060 | 0.3798 | 0.4371498
5516410070 | 0.3798 | 0.4371498
5516410090 | 0.3798 | 0.4371498
5516420010 | 0.3798 | 0.4371498
5516420022 | 0.3798 | 0.4371498
5516420027 | 0.3798 | 0.4371498
5516420030 | 0.3798 | 0.4371498
5516420040 | 0.3798 | 0.4371498
5516420050 | 0.3798 | 0.4371498
5516420060 | 0.3798 | 0.4371498
5516420070 | 0.3798 | 0.4371498
5516420090 | 0.3798 | 0.4371498
5516430010 | 0.217 | 0.249767
5516430015 | 0.3798 | 0.4371498
5516430020 | 0.3798 | 0.4371498
5516430035 | 0.3798 | 0.4371498
5516430080 | 0.3798 | 0.4371498
5516440010 | 0.3798 | 0.4371498
5516440022 | 0.3798 | 0.4371498
5516440027 | 0.3798 | 0.4371498
5516440030 | 0.3798 | 0.4371498
5516440040 | 0.3798 | 0.4371498
5516440050 | 0.3798 | 0.4371498
5516440060 | 0.3798 | 0.4371498
5516440070 | 0.3798 | 0.4371498
5516440090 | 0.3798 | 0.4371498
5516910010 | 0.0543 | 0.0624993
5516910020 | 0.0543 | 0.0624993
5516910030 | 0.0543 | 0.0624993
5516910040 | 0.0543 | 0.0624993
5516910050 | 0.0543 | 0.0624993
5516910060 | 0.0543 | 0.0624993
5516910070 | 0.0543 | 0.0624993
5516910090 | 0.0543 | 0.0624993
5516920010 | 0.0543 | 0.0624993
5516920020 | 0.0543 | 0.0624993
5516920030 | 0.0543 | 0.0624993
5516920040 | 0.0543 | 0.0624993
5516920050 | 0.0543 | 0.0624993
5516920060 | 0.0543 | 0.0624993
5516920070 | 0.0543 | 0.0624993
5516920090 | 0.0543 | 0.0624993
5516930010 | 0.0543 | 0.0624993
5516930020 | 0.0543 | 0.0624993
5516930090 | 0.0543 | 0.0624993
5516940010 | 0.0543 | 0.0624993
5516940020 | 0.0543 | 0.0624993
5516940030 | 0.0543 | 0.0624993
5516940040 | 0.0543 | 0.0624993
5516940050 | 0.0543 | 0.0624993
5516940060 | 0.0543 | 0.0624993
5516940070 | 0.0543 | 0.0624993
5516940090 | 0.0543 | 0.0624993
5601210010 | 0.9767 | 1.1241817
5601210090 | 0.9767 | 1.1241817
5601220010 | 0.9767 | 1.1241817
5601220090 | 0.9767 | 1.1241817
5601300000 | 0.3256 | 0.3747656
5602101000 | 0.0543 | 0.0624993
5602109090 | 0.4341 | 0.4996491
5602290000 | 0.4341 | 0.4996491
5602909000 | 0.3256 | 0.3747656
5603143000 | 0.2713 | 0.3122663
5603910010 | 0.0217 | 0.0249767
5603910090 | 0.0651 | 0.0749301
5603920010 | 0.0217 | 0.0249767
5603920090 | 0.0651 | 0.0749301
5603930010 | 0.0217 | 0.0249767
5603930090 | 0.0651 | 0.0749301
5603941090 | 0.3256 | 0.3747656
5603943000 | 0.1628 | 0.1873828
5603949010 | 0.0326 | 0.0375226
5604100000 | 0.2632 | 0.3029432
5604909000 | 0.2105 | 0.2422855
5605009000 | 0.1579 | 0.1817429
5606000010 | 0.1263 | 0.1453713
5606000090 | 0.1263 | 0.1453713
5607502500 | 0.1684 | 0.1938284
5607909000 | 0.8421 | 0.9692571
5608902300 | 0.6316 | 0.7269716
5608902700 | 0.6316 | 0.7269716
5608903000 | 0.3158 | 0.3634858
5609001000 | 0.8421 | 0.9692571
5609004000 | 0.2105 | 0.2422855
5701101300 | 0.0526 | 0.0605426
5701101600 | 0.0526 | 0.0605426
5701104000 | 0.0526 | 0.0605426
5701109000 | 0.0526 | 0.0605426
5701901010 | 1 | 1.151
5701901020 | 1 | 1.151
5701901030 | 0.0526 | 0.0605426
5701901090 | 0.0526 | 0.0605426
5701902010 | 0.9474 | 1.0904574
5701902020 | 0.9474 | 1.0904574
5701902030 | 0.0526 | 0.0605426
5701902090 | 0.0526 | 0.0605426
5702101000 | 0.0447 | 0.0514497
5702109010 | 0.0447 | 0.0514497
5702109020 | 0.85 | 0.97835
5702109030 | 0.0447 | 0.0514497
5702109090 | 0.0447 | 0.0514497
5702201000 | 0.0447 | 0.0514497
5702311000 | 0.0447 | 0.0514497
5702312000 | 0.0895 | 0.1030145
5702322000 | 0.0895 | 0.1030145
5702391000 | 0.0895 | 0.1030145
5702392010 | 0.8053 | 0.9269003
5702392090 | 0.0447 | 0.0514497
5702411000 | 0.0447 | 0.0514497
5702412000 | 0.0447 | 0.0514497
5702421000 | 0.0895 | 0.1030145
5702422020 | 0.0895 | 0.1030145
5702422080 | 0.0895 | 0.1030145
5702491020 | 0.8947 | 1.0297997
5702491080 | 0.8947 | 1.0297997
5702492000 | 0.0895 | 0.1030145
5702502000 | 0.0895 | 0.1030145
5702504000 | 0.0447 | 0.0514497
5702505200 | 0.0895 | 0.1030145
5702505600 | 0.85 | 0.97835
5702912000 | 0.0447 | 0.0514497
5702913000 | 0.0447 | 0.0514497
5702914000 | 0.0447 | 0.0514497
5702921000 | 0.0447 | 0.0514497
5702929000 | 0.0447 | 0.0514497
5702990500 | 0.8947 | 1.0297997
5702991500 | 0.8947 | 1.0297997
5703201000 | 0.0452 | 0.0520252
5703202010 | 0.0452 | 0.0520252
5703302000 | 0.0452 | 0.0520252
5703900000 | 0.3615 | 0.4160865
5705001000 | 0.0452 | 0.0520252
5705002005 | 0.0452 | 0.0520252
5705002015 | 0.0452 | 0.0520252
5705002020 | 0.7682 | 0.8841982
5705002030 | 0.0452 | 0.0520252
5705002090 | 0.1808 | 0.2081008
5801210000 | 0.9767 | 1.1241817
5801221000 | 0.9767 | 1.1241817
5801229000 | 0.9767 | 1.1241817
5801230000 | 0.9767 | 1.1241817
5801260010 | 0.7596 | 0.8742996
5801260020 | 0.7596 | 0.8742996
5801271000 | 0.9767 | 1.1241817
5801275010 | 1.0852 | 1.2490652
5801275020 | 0.9767 | 1.1241817
5801310000 | 0.217 | 0.249767
5801320000 | 0.217 | 0.249767
5801330000 | 0.217 | 0.249767
5801360010 | 0.217 | 0.249767
5801360020 | 0.217 | 0.249767
5802110000 | 1.0309 | 1.1865659
5802190000 | 1.0309 | 1.1865659
5802200020 | 0.1085 | 0.1248835
5802200090 | 0.3256 | 0.3747656
5802300030 | 0.4341 | 0.4996491
5802300090 | 0.1085 | 0.1248835
5803001000 | 1.0852 | 1.2490652
5803002000 | 0.8681 | 0.9991831
5803003000 | 0.8681 | 0.9991831
5803005000 | 0.3256 | 0.3747656
5804101000 | 0.4341 | 0.4996491
5804109090 | 0.2193 | 0.2524143
5804291000 | 0.8772 | 1.0096572
5804300020 | 0.3256 | 0.3747656
5805001000 | 0.1085 | 0.1248835
5805003000 | 1.0852 | 1.2490652
5806101000 | 0.8681 | 0.9991831
5806103090 | 0.217 | 0.249767
5806200010 | 0.2577 | 0.2966127
5806200090 | 0.2577 | 0.2966127
5806310000 | 0.8681 | 0.9991831
5806393080 | 0.217 | 0.249767
5806400000 | 0.0814 | 0.0936914
5807100510 | 0.8681 | 0.9991831
5807102010 | 0.8681 | 0.9991831
5807900510 | 0.8681 | 0.9991831
5807902010 | 0.8681 | 0.9991831
5808104000 | 0.217 | 0.249767
5808107000 | 0.217 | 0.249767
5808900010 | 0.4341 | 0.4996491
5810100000 | 0.3256 | 0.3747656
5810910010 | 0.7596 | 0.8742996
5810910020 | 0.7596 | 0.8742996
5810921000 | 0.217 | 0.249767
5810929030 | 0.217 | 0.249767
5810929050 | 0.217 | 0.249767
5810929080 | 0.217 | 0.249767
5811002000 | 0.8681 | 0.9991831
5901102000 | 0.5643 | 0.6495093
5901904000 | 0.8139 | 0.9367989
5903101000 | 0.4341 | 0.4996491
5903103000 | 0.1085 | 0.1248835
5903201000 | 0.4341 | 0.4996491
5903203090 | 0.1085 | 0.1248835
5903901000 | 0.4341 | 0.4996491
5903903090 | 0.1085 | 0.1248835
5904901000 | 0.0326 | 0.0375226
5905001000 | 0.1085 | 0.1248835
5905009000 | 0.1085 | 0.1248835
5906100000 | 0.4341 | 0.4996491
5906911000 | 0.4341 | 0.4996491
5906913000 | 0.1085 | 0.1248835
5906991000 | 0.4341 | 0.4996491
5906993000 | 0.1085 | 0.1248835
5907002500 | 0.3798 | 0.4371498
5907003500 | 0.3798 | 0.4371498
5907008090 | 0.3798 | 0.4371498
5908000000 | 0.7813 | 0.8992763
5909001000 | 0.6837 | 0.7869387
5909002000 | 0.4883 | 0.5620333
5910001010 | 0.3798 | 0.4371498
5910001020 | 0.3798 | 0.4371498
5910001030 | 0.3798 | 0.4371498
5910001060 | 0.3798 | 0.4371498
5910001070 | 0.3798 | 0.4371498
5910001090 | 0.6837 | 0.7869387
5910009000 | 0.5697 | 0.6557247
5911101000 | 0.1736 | 0.1998136
5911102000 | 0.0434 | 0.0499534
5911201000 | 0.4341 | 0.4996491
5911310010 | 0.4341 | 0.4996491
5911310020 | 0.4341 | 0.4996491
5911310030 | 0.4341 | 0.4996491
5911310080 | 0.4341 | 0.4996491
5911320010 | 0.4341 | 0.4996491
5911320020 | 0.4341 | 0.4996491
5911320030 | 0.4341 | 0.4996491
5911320080 | 0.4341 | 0.4996491
5911400000 | 0.5426 | 0.6245326
5911900040 | 0.3158 | 0.3634858
5911900080 | 0.2105 | 0.2422855
6001106000 | 0.1096 | 0.1261496
6001210000 | 0.9868 | 1.1358068
6001220000 | 0.1096 | 0.1261496
6001290000 | 0.1096 | 0.1261496
6001910010 | 0.8772 | 1.0096572
6001910020 | 0.8772 | 1.0096572
6001920010 | 0.0548 | 0.0630748
6001920020 | 0.0548 | 0.0630748
6001920030 | 0.0548 | 0.0630748
6001920040 | 0.0548 | 0.0630748
6001999000 | 0.1096 | 0.1261496
6002404000 | 0.7401 | 0.8518551
6002408020 | 0.1974 | 0.2272074
6002408080 | 0.1974 | 0.2272074
6002904000 | 0.7895 | 0.9087145
6002908020 | 0.1974 | 0.2272074
6002908080 | 0.1974 | 0.2272074
6003201000 | 0.8772 | 1.0096572
6003203000 | 0.8772 | 1.0096572
6003301000 | 0.1096 | 0.1261496
6003306000 | 0.1096 | 0.1261496
6003401000 | 0.1096 | 0.1261496
6003406000 | 0.1096 | 0.1261496
6003901000 | 0.1096 | 0.1261496
6003909000 | 0.1096 | 0.1261496
6004100010 | 0.2961 | 0.3408111
6004100025 | 0.2961 | 0.3408111
6004100085 | 0.2961 | 0.3408111
6004902010 | 0.2961 | 0.3408111
6004902025 | 0.2961 | 0.3408111
6004902085 | 0.2961 | 0.3408111
6004909000 | 0.2961 | 0.3408111
6005210000 | 0.7127 | 0.8203177
6005220000 | 0.7127 | 0.8203177
6005230000 | 0.7127 | 0.8203177
6005240000 | 0.7127 | 0.8203177
6005360010 | 0.1096 | 0.1261496
6005360080 | 0.1096 | 0.1261496
6005370010 | 0.1096 | 0.1261496
6005370080 | 0.1096 | 0.1261496
6005380010 | 0.1096 | 0.1261496
6005380080 | 0.1096 | 0.1261496
6005390010 | 0.1096 | 0.1261496
6005390080 | 0.1096 | 0.1261496
6005410010 | 0.1096 | 0.1261496
6005410080 | 0.1096 | 0.1261496
6005420010 | 0.1096 | 0.1261496
6005420080 | 0.1096 | 0.1261496
6005430010 | 0.1096 | 0.1261496
6005430080 | 0.1096 | 0.1261496
6005440010 | 0.1096 | 0.1261496
6005440080 | 0.1096 | 0.1261496
6005909000 | 0.1096 | 0.1261496
6006211000 | 1.0965 | 1.2620715
6006219020 | 0.7675 | 0.8833925
6006219080 | 0.7675 | 0.8833925
6006221000 | 1.0965 | 1.2620715
6006229020 | 0.7675 | 0.8833925
6006229080 | 0.7675 | 0.8833925
6006231000 | 1.0965 | 1.2620715
6006239020 | 0.7675 | 0.8833925
6006239080 | 0.7675 | 0.8833925
6006241000 | 1.0965 | 1.2620715
6006249020 | 0.7675 | 0.8833925
6006249080 | 0.7675 | 0.8833925
6006310020 | 0.3289 | 0.3785639
6006310040 | 0.3289 | 0.3785639
6006310060 | 0.3289 | 0.3785639
6006310080 | 0.3289 | 0.3785639
6006320020 | 0.3289 | 0.3785639
6006320040 | 0.3289 | 0.3785639
6006320060 | 0.3289 | 0.3785639
6006320080 | 0.3289 | 0.3785639
6006330020 | 0.3289 | 0.3785639
6006330040 | 0.3289 | 0.3785639
6006330060 | 0.3289 | 0.3785639
6006330080 | 0.3289 | 0.3785639
6006340020 | 0.3289 | 0.3785639
6006340040 | 0.3289 | 0.3785639
6006340060 | 0.3289 | 0.3785639
6006340080 | 0.3289 | 0.3785639
6006410025 | 0.3289 | 0.3785639
6006410085 | 0.3289 | 0.3785639
6006420025 | 0.3289 | 0.3785639
6006420085 | 0.3289 | 0.3785639
6006430025 | 0.3289 | 0.3785639
6006430085 | 0.3289 | 0.3785639
6006440025 | 0.3289 | 0.3785639
6006440085 | 0.3289 | 0.3785639
6006909000 | 0.1096 | 0.1261496
6101200010 | 1.02 | 1.17402
6101200020 | 1.02 | 1.17402
6101301000 | 0.2072 | 0.2384872
6101900500 | 0.1912 | 0.2200712
6101909010 | 0.5737 | 0.6603287
6101909030 | 0.51 | 0.58701
6101909060 | 0.255 | 0.293505
6102100000 | 0.255 | 0.293505
6102200010 | 0.9562 | 1.1005862
6102200020 | 0.9562 | 1.1005862
6102300500 | 0.1785 | 0.2054535
6102909005 | 0.5737 | 0.6603287
6102909015 | 0.4462 | 0.5135762
6102909030 | 0.255 | 0.293505
6103101000 | 0.0637 | 0.0733187
6103104000 | 0.1218 | 0.1401918
6103105000 | 0.1218 | 0.1401918
6103106010 | 0.8528 | 0.9815728
6103106015 | 0.8528 | 0.9815728
6103106030 | 0.8528 | 0.9815728
6103109010 | 0.5482 | 0.6309782
6103109020 | 0.5482 | 0.6309782
6103109030 | 0.5482 | 0.6309782
6103109040 | 0.1218 | 0.1401918
6103109050 | 0.1218 | 0.1401918
6103109080 | 0.1827 | 0.2102877
6103320000 | 0.8722 | 1.0039022
6103398010 | 0.7476 | 0.8604876
6103398030 | 0.3738 | 0.4302438
6103398060 | 0.2492 | 0.2868292
6103411010 | 0.3576 | 0.4115976
6103411020 | 0.3576 | 0.4115976
6103412000 | 0.3576 | 0.4115976
6103421020 | 0.8343 | 0.9602793
6103421035 | 0.8343 | 0.9602793
6103421040 | 0.8343 | 0.9602793
6103421050 | 0.8343 | 0.9602793
6103421065 | 0.8343 | 0.9602793
6103421070 | 0.8343 | 0.9602793
6103422010 | 0.8343 | 0.9602793
6103422015 | 0.8343 | 0.9602793
6103422025 | 0.8343 | 0.9602793
6103431520 | 0.2384 | 0.2743984
6103431535 | 0.2384 | 0.2743984
6103431540 | 0.2384 | 0.2743984
6103431550 | 0.2384 | 0.2743984
6103431565 | 0.2384 | 0.2743984
6103431570 | 0.2384 | 0.2743984
6103432020 | 0.2384 | 0.2743984
6103432025 | 0.2384 | 0.2743984
6103491020 | 0.2437 | 0.2804987
6103491060 | 0.2437 | 0.2804987
6103492000 | 0.2437 | 0.2804987
6103498010 | 0.5482 | 0.6309782
6103498014 | 0.3655 | 0.4206905
6103498024 | 0.2437 | 0.2804987
6103498026 | 0.2437 | 0.2804987
6103498034 | 0.5482 | 0.6309782
6103498038 | 0.3655 | 0.4206905
6103498060 | 0.2437 | 0.2804987
6104196010 | 0.8722 | 1.0039022
6104196020 | 0.8722 | 1.0039022
6104196030 | 0.8722 | 1.0039022
6104196040 | 0.8722 | 1.0039022
6104198010 | 0.5607 | 0.6453657
6104198020 | 0.5607 | 0.6453657
6104198030 | 0.5607 | 0.6453657
6104198040 | 0.5607 | 0.6453657
6104198060 | 0.3738 | 0.4302438
6104198090 | 0.2492 | 0.2868292
6104320000 | 0.8722 | 1.0039022
6104392010 | 0.5607 | 0.6453657
6104392030 | 0.3738 | 0.4302438
6104392090 | 0.2492 | 0.2868292
6104420010 | 0.8528 | 0.9815728
6104420020 | 0.8528 | 0.9815728
6104499010 | 0.5482 | 0.6309782
6104499030 | 0.3655 | 0.4206905
6104499060 | 0.2437 | 0.2804987
6104520010 | 0.8822 | 1.0154122
6104520020 | 0.8822 | 1.0154122
6104598010 | 0.5672 | 0.6528472
6104598030 | 0.3781 | 0.4351931
6104598090 | 0.2521 | 0.2901671
6104610010 | 0.2384 | 0.2743984
6104610020 | 0.2384 | 0.2743984
6104610030 | 0.2384 | 0.2743984
6104621010 | 0.7509 | 0.8642859
6104621020 | 0.8343 | 0.9602793
6104621030 | 0.8343 | 0.9602793
6104622006 | 0.7151 | 0.8230801
6104622011 | 0.8343 | 0.9602793
6104622016 | 0.7151 | 0.8230801
6104622021 | 0.8343 | 0.9602793
6104622026 | 0.7151 | 0.8230801
6104622028 | 0.8343 | 0.9602793
6104622030 | 0.8343 | 0.9602793
6104622050 | 0.8343 | 0.9602793
6104622060 | 0.8343 | 0.9602793
6104631020 | 0.2384 | 0.2743984
6104631030 | 0.2384 | 0.2743984
6104632006 | 0.8343 | 0.9602793
6104632011 | 0.8343 | 0.9602793
6104632016 | 0.7151 | 0.8230801
6104632021 | 0.8343 | 0.9602793
6104632026 | 0.3576 | 0.4115976
6104632028 | 0.3576 | 0.4115976
6104632030 | 0.3576 | 0.4115976
6104632050 | 0.7151 | 0.8230801
6104632060 | 0.3576 | 0.4115976
6104691000 | 0.3655 | 0.4206905
6104692030 | 0.3655 | 0.4206905
6104692060 | 0.3655 | 0.4206905
6104698010 | 0.5482 | 0.6309782
6104698014 | 0.3655 | 0.4206905
6104698020 | 0.2437 | 0.2804987
6104698022 | 0.5482 | 0.6309782
6104698026 | 0.3655 | 0.4206905
6104698038 | 0.2437 | 0.2804987
6104698040 | 0.2437 | 0.2804987
6105100010 | 0.9332 | 1.0741132
6105100020 | 0.9332 | 1.0741132
6105100030 | 0.9332 | 1.0741132
6105202010 | 0.2916 | 0.3356316
6105202020 | 0.2916 | 0.3356316
6105202030 | 0.2916 | 0.3356316
6105908010 | 0.5249 | 0.6041599
6105908030 | 0.3499 | 0.4027349
6105908060 | 0.2333 | 0.2685283
6106100010 | 0.9332 | 1.0741132
6106100020 | 0.9332 | 1.0741132
6106100030 | 0.9332 | 1.0741132
6106202010 | 0.2916 | 0.3356316
6106202020 | 0.4666 | 0.5370566
6106202030 | 0.2916 | 0.3356316
6106901500 | 0.0583 | 0.0671033
6106902510 | 0.5249 | 0.6041599
6106902530 | 0.3499 | 0.4027349
6106902550 | 0.2916 | 0.3356316
6106903010 | 0.5249 | 0.6041599
6106903030 | 0.3499 | 0.4027349
6106903040 | 0.2916 | 0.3356316
6107110010 | 1.0727 | 1.2346777
6107110020 | 1.0727 | 1.2346777
6107120010 | 0.4767 | 0.5486817
6107120020 | 0.4767 | 0.5486817
6107191000 | 0.1192 | 0.1371992
6107210010 | 0.8343 | 0.9602793
6107210020 | 0.7151 | 0.8230801
6107220010 | 0.3576 | 0.4115976
6107220015 | 0.1192 | 0.1371992
6107220025 | 0.2384 | 0.2743984
6107299000 | 0.1788 | 0.2057988
6107910030 | 1.1918 | 1.3717618
6107910040 | 1.1918 | 1.3717618
6107910090 | 0.9535 | 1.0974785
6107991030 | 0.3576 | 0.4115976
6107991040 | 0.3576 | 0.4115976
6107991090 | 0.3576 | 0.4115976
6107999000 | 0.1192 | 0.1371992
6108199010 | 1.0611 | 1.2213261
6108199030 | 0.2358 | 0.2714058
6108210010 | 1.179 | 1.357029
6108210020 | 1.179 | 1.357029
6108299000 | 0.3537 | 0.4071087
6108310010 | 1.0611 | 1.2213261
6108310020 | 1.0611 | 1.2213261
6108320010 | 0.2358 | 0.2714058
6108320015 | 0.2358 | 0.2714058
6108320025 | 0.2358 | 0.2714058
6108398000 | 0.3537 | 0.4071087
6108910005 | 1.179 | 1.357029
6108910015 | 1.179 | 1.357029
6108910025 | 1.179 | 1.357029
6108910030 | 1.179 | 1.357029
6108910040 | 1.179 | 1.357029
6108920005 | 0.2358 | 0.2714058
6108920015 | 0.2358 | 0.2714058
6108920025 | 0.2358 | 0.2714058
6108920030 | 0.2358 | 0.2714058
6108920040 | 0.2358 | 0.2714058
6108999000 | 0.3537 | 0.4071087
6109100004 | 1.0022 | 1.1535322
6109100007 | 1.0022 | 1.1535322
6109100011 | 1.0022 | 1.1535322
6109100012 | 1.0022 | 1.1535322
6109100014 | 1.0022 | 1.1535322
6109100018 | 1.0022 | 1.1535322
6109100023 | 1.0022 | 1.1535322
6109100027 | 1.0022 | 1.1535322
6109100037 | 1.0022 | 1.1535322
6109100040 | 1.0022 | 1.1535322
6109100045 | 1.0022 | 1.1535322
6109100060 | 1.0022 | 1.1535322
6109100065 | 1.0022 | 1.1535322
6109100070 | 1.0022 | 1.1535322
6109901007 | 0.2948 | 0.3393148
6109901009 | 0.2948 | 0.3393148
6109901013 | 0.2948 | 0.3393148
6109901025 | 0.2948 | 0.3393148
6109901047 | 0.2948 | 0.3393148
6109901049 | 0.2948 | 0.3393148
6109901050 | 0.2948 | 0.3393148
6109901060 | 0.2948 | 0.3393148
6109901065 | 0.2948 | 0.3393148
6109901070 | 0.2948 | 0.3393148
6109901075 | 0.2948 | 0.3393148
6109901090 | 0.2948 | 0.3393148
6109908010 | 0.3499 | 0.4027349
6109908030 | 0.2333 | 0.2685283
6110201010 | 0.7476 | 0.8604876
6110201020 | 0.7476 | 0.8604876
6110201022 | 0.7476 | 0.8604876
6110201024 | 0.7476 | 0.8604876
6110201026 | 0.7476 | 0.8604876
6110201029 | 0.7476 | 0.8604876
6110201031 | 0.7476 | 0.8604876
6110201033 | 0.7476 | 0.8604876
6110202005 | 1.1214 | 1.2907314
6110202010 | 1.1214 | 1.2907314
6110202015 | 1.1214 | 1.2907314
6110202020 | 1.1214 | 1.2907314
6110202025 | 1.1214 | 1.2907314
6110202030 | 1.1214 | 1.2907314
6110202035 | 1.1214 | 1.2907314
6110202041 | 1.0965 | 1.2620715
6110202044 | 1.0965 | 1.2620715
6110202046 | 1.0965 | 1.2620715
6110202049 | 1.0965 | 1.2620715
6110202067 | 1.0965 | 1.2620715
6110202069 | 1.0965 | 1.2620715
6110202077 | 1.0965 | 1.2620715
6110202079 | 1.0965 | 1.2620715
6110909010 | 0.5607 | 0.6453657
6110909012 | 0.1246 | 0.1434146
6110909014 | 0.3738 | 0.4302438
6110909026 | 0.5607 | 0.6453657
6110909028 | 0.1869 | 0.2151219
6110909030 | 0.3738 | 0.4302438
6110909044 | 0.5607 | 0.6453657
6110909046 | 0.5607 | 0.6453657
6110909052 | 0.3738 | 0.4302438
6110909054 | 0.3738 | 0.4302438
6110909064 | 0.2492 | 0.2868292
6110909066 | 0.2492 | 0.2868292
6110909067 | 0.5607 | 0.6453657
6110909069 | 0.5607 | 0.6453657
6110909071 | 0.5607 | 0.6453657
6110909073 | 0.5607 | 0.6453657
6110909079 | 0.3738 | 0.4302438
6110909080 | 0.3738 | 0.4302438
6110909081 | 0.3738 | 0.4302438
6110909082 | 0.3738 | 0.4302438
6110909088 | 0.2492 | 0.2868292
6110909090 | 0.2492 | 0.2868292
6111201000 | 1.1918 | 1.3717618
6111202000 | 1.1918 | 1.3717618
6111203000 | 0.9535 | 1.0974785
6111204000 | 0.9535 | 1.0974785
6111205000 | 0.9535 | 1.0974785
6111206010 | 0.9535 | 1.0974785
6111206020 | 0.9535 | 1.0974785
6111206030 | 0.9535 | 1.0974785
6111206050 | 0.9535 | 1.0974785
6111206070 | 0.9535 | 1.0974785
6111301000 | 0.2384 | 0.2743984
6111302000 | 0.2384 | 0.2743984
6111303000 | 0.2384 | 0.2743984
6111304000 | 0.2384 | 0.2743984
6111305010 | 0.2384 | 0.2743984
6111305015 | 0.2384 | 0.2743984
6111305020 | 0.2384 | 0.2743984
6111305030 | 0.2384 | 0.2743984
6111305050 | 0.2384 | 0.2743984
6111305070 | 0.2384 | 0.2743984
6111901000 | 0.2384 | 0.2743984
6111902000 | 0.2384 | 0.2743984
6111903000 | 0.2384 | 0.2743984
6111904000 | 0.2384 | 0.2743984
6111905010 | 0.2384 | 0.2743984
6111905020 | 0.2384 | 0.2743984
6111905030 | 0.2384 | 0.2743984
6111905050 | 0.2384 | 0.2743984
6111905070 | 0.2384 | 0.2743984
6112110010 | 0.9535 | 1.0974785
6112110020 | 0.9535 | 1.0974785
6112110030 | 0.9535 | 1.0974785
6112110040 | 0.9535 | 1.0974785
6112110050 | 0.9535 | 1.0974785
6112110060 | 0.9535 | 1.0974785
6112120010 | 0.2384 | 0.2743984
6112120020 | 0.2384 | 0.2743984
6112120030 | 0.2384 | 0.2743984
6112120040 | 0.2384 | 0.2743984
6112120050 | 0.2384 | 0.2743984
6112120060 | 0.2384 | 0.2743984
6112191010 | 0.2492 | 0.2868292
6112191020 | 0.2492 | 0.2868292
6112191030 | 0.2492 | 0.2868292
6112191040 | 0.2492 | 0.2868292
6112191050 | 0.2492 | 0.2868292
6112191060 | 0.2492 | 0.2868292
6112201060 | 0.2492 | 0.2868292
6112201070 | 0.2492 | 0.2868292
6112201080 | 0.2492 | 0.2868292
6112201090 | 0.2492 | 0.2868292
6112202010 | 0.8722 | 1.0039022
6112202020 | 0.3738 | 0.4302438
6112202030 | 0.2492 | 0.2868292
6112310010 | 0.1192 | 0.1371992
6112310020 | 0.1192 | 0.1371992
6112390010 | 1.0727 | 1.2346777
6112410010 | 0.1192 | 0.1371992
6112410020 | 0.1192 | 0.1371992
6112410030 | 0.1192 | 0.1371992
6112410040 | 0.1192 | 0.1371992
6112490010 | 0.8939 | 1.0288789
6113001005 | 0.1246 | 0.1434146
6113001010 | 0.1246 | 0.1434146
6113001012 | 0.1246 | 0.1434146
6113009015 | 0.3489 | 0.4015839
6113009020 | 0.3489 | 0.4015839
6113009038 | 0.3489 | 0.4015839
6113009042 | 0.3489 | 0.4015839
6113009055 | 0.3489 | 0.4015839
6113009060 | 0.3489 | 0.4015839
6113009074 | 0.3489 | 0.4015839
6113009082 | 0.3489 | 0.4015839
6114200005 | 0.9747 | 1.1218797
6114200010 | 0.9747 | 1.1218797
6114200015 | 0.8528 | 0.9815728
6114200020 | 0.8528 | 0.9815728
6114200035 | 0.8528 | 0.9815728
6114200040 | 0.8528 | 0.9815728
6114200042 | 0.3655 | 0.4206905
6114200044 | 0.8528 | 0.9815728
6114200046 | 0.8528 | 0.9815728
6114200048 | 0.8528 | 0.9815728
6114200052 | 0.8528 | 0.9815728
6114200055 | 0.8528 | 0.9815728
6114200060 | 0.8528 | 0.9815728
6114301010 | 0.2437 | 0.2804987
6114301020 | 0.2437 | 0.2804987
6114302060 | 0.1218 | 0.1401918
6114303014 | 0.2437 | 0.2804987
6114303020 | 0.2437 | 0.2804987
6114303030 | 0.2437 | 0.2804987
6114303042 | 0.2437 | 0.2804987
6114303044 | 0.2437 | 0.2804987
6114303052 | 0.2437 | 0.2804987
6114303054 | 0.2437 | 0.2804987
6114303060 | 0.2437 | 0.2804987
6114303070 | 0.2437 | 0.2804987
6114909045 | 0.5482 | 0.6309782
6114909055 | 0.3655 | 0.4206905
6114909070 | 0.3655 | 0.4206905
6115100500 | 0.4386 | 0.5048286
6115101510 | 1.0965 | 1.2620715
6115103000 | 0.9868 | 1.1358068
6115106000 | 0.1096 | 0.1261496
6115298010 | 1.0965 | 1.2620715
6115309030 | 0.7675 | 0.8833925
6115956000 | 0.9868 | 1.1358068
6115959000 | 0.9868 | 1.1358068
6115966020 | 0.2193 | 0.2524143
6115991420 | 0.2193 | 0.2524143
6115991920 | 0.2193 | 0.2524143
6115999000 | 0.1096 | 0.1261496
6116101300 | 0.3463 | 0.3985913
6116101720 | 0.8079 | 0.9298929
6116104810 | 0.4444 | 0.5115044
6116105510 | 0.6464 | 0.7440064
6116107510 | 0.6464 | 0.7440064
6116109500 | 0.1616 | 0.1860016
6116920500 | 0.8079 | 0.9298929
6116920800 | 0.8079 | 0.9298929
6116926410 | 1.0388 | 1.1956588
6116926420 | 1.0388 | 1.1956588
6116926430 | 1.1542 | 1.3284842
6116926440 | 1.0388 | 1.1956588
6116927450 | 1.0388 | 1.1956588
6116927460 | 1.1542 | 1.3284842
6116927470 | 1.0388 | 1.1956588
6116928800 | 1.0388 | 1.1956588
6116929400 | 1.0388 | 1.1956588
6116938800 | 0.1154 | 0.1328254
6116939400 | 0.1154 | 0.1328254
6116994800 | 0.1154 | 0.1328254
6116995400 | 0.1154 | 0.1328254
6116999510 | 0.4617 | 0.5314167
6116999530 | 0.3463 | 0.3985913
6117106010 | 0.9234 | 1.0628334
6117106020 | 0.2308 | 0.2656508
6117808500 | 0.9234 | 1.0628334
6117808710 | 1.1542 | 1.3284842
6117808770 | 0.1731 | 0.1992381
6117809510 | 0.9234 | 1.0628334
6117809540 | 0.3463 | 0.3985913
6117809570 | 0.1731 | 0.1992381
6117909003 | 1.1542 | 1.3284842
6117909015 | 0.2308 | 0.2656508
6117909020 | 1.1542 | 1.3284842
6117909040 | 1.1542 | 1.3284842
6117909060 | 1.1542 | 1.3284842
6117909080 | 1.1542 | 1.3284842
6201121000 | 0.8981 | 1.0337131
6201122010 | 0.8482 | 0.9762782
6201122020 | 0.8482 | 0.9762782
6201122025 | 0.9979 | 1.1485829
6201122035 | 0.9979 | 1.1485829
6201122050 | 0.6486 | 0.7465386
6201122060 | 0.6486 | 0.7465386
6201134015 | 0.1996 | 0.2297396
6201134020 | 0.1996 | 0.2297396
6201134030 | 0.2495 | 0.2871745
6201134040 | 0.2495 | 0.2871745
6201199010 | 0.5613 | 0.6460563
6201199030 | 0.3742 | 0.4307042
6201199060 | 0.3742 | 0.4307042
6201920500 | 0.8779 | 1.0104629
6201921700 | 1.0974 | 1.2631074
6201921905 | 0.9754 | 1.1226854
6201921910 | 0.9754 | 1.1226854
6201921921 | 1.2193 | 1.4034143
6201921931 | 1.2193 | 1.4034143
6201921941 | 1.2193 | 1.4034143
6201921951 | 0.9754 | 1.1226854
6201921961 | 0.9754 | 1.1226854
6201923000 | 0.8779 | 1.0104629
6201923500 | 1.0974 | 1.2631074
6201924505 | 0.9754 | 1.1226854
6201924510 | 0.9754 | 1.1226854
6201924521 | 1.2193 | 1.4034143
6201924531 | 1.2193 | 1.4034143
6201924541 | 1.2193 | 1.4034143
6201924551 | 0.9754 | 1.1226854
6201924561 | 0.9754 | 1.1226854
6201931500 | 0.2926 | 0.3367826
6201931810 | 0.2439 | 0.2807289
6201931820 | 0.2439 | 0.2807289
6201934911 | 0.2439 | 0.2807289
6201934921 | 0.2439 | 0.2807289
6201935000 | 0.2926 | 0.3367826
6201935210 | 0.2439 | 0.2807289
6201935220 | 0.2439 | 0.2807289
6201936511 | 0.2439 | 0.2807289
6201936521 | 0.2439 | 0.2807289
6201991510 | 0.5487 | 0.6315537
6201991530 | 0.3658 | 0.4210358
6201991560 | 0.2439 | 0.2807289
6201998010 | 0.5487 | 0.6315537
6201998030 | 0.3658 | 0.4210358
6201998060 | 0.2439 | 0.2807289
6202121000 | 0.8879 | 1.0219729
6202122010 | 1.0482 | 1.2064782
6202122020 | 1.0482 | 1.2064782
6202122025 | 1.2332 | 1.4194132
6202122035 | 1.2332 | 1.4194132
6202122050 | 0.8016 | 0.9226416
6202122060 | 0.8016 | 0.9226416
6202134005 | 0.2524 | 0.2905124
6202134010 | 0.2524 | 0.2905124
6202134020 | 0.3155 | 0.3631405
6202134030 | 0.3155 | 0.3631405
6202199010 | 0.5678 | 0.6535378
6202199030 | 0.3786 | 0.4357686
6202199060 | 0.2524 | 0.2905124
6202920300 | 0.9865 | 1.1354615
6202920500 | 0.9865 | 1.1354615
6202921210 | 0.9865 | 1.1354615
6202921220 | 0.9865 | 1.1354615
6202921226 | 1.2332 | 1.4194132
6202921231 | 1.2332 | 1.4194132
6202921261 | 0.9865 | 1.1354615
6202921271 | 0.9865 | 1.1354615
6202922500 | 0.9865 | 1.1354615
6202923000 | 0.9865 | 1.1354615
6202929010 | 0.9865 | 1.1354615
6202929020 | 0.9865 | 1.1354615
6202929026 | 1.2332 | 1.4194132
6202929031 | 1.2332 | 1.4194132
6202929061 | 0.9865 | 1.1354615
6202929071 | 0.9865 | 1.1354615
6202930100 | 0.296 | 0.340696
6202930310 | 0.2466 | 0.2838366
6202930320 | 0.2466 | 0.2838366
6202930911 | 0.2466 | 0.2838366
6202930921 | 0.2466 | 0.2838366
6202931500 | 0.296 | 0.340696
6202932510 | 0.2466 | 0.2838366
6202932520 | 0.2466 | 0.2838366
6202935511 | 0.2466 | 0.2838366
6202935521 | 0.2466 | 0.2838366
6202991511 | 0.5549 | 0.6386899
6202991531 | 0.37 | 0.42587
6202991561 | 0.2466 | 0.2838366
6202998011 | 0.5549 | 0.6386899
6202998031 | 0.37 | 0.42587
6202998061 | 0.2466 | 0.2838366
6203122010 | 0.1233 | 0.1419183
6203122020 | 0.1233 | 0.1419183
6203191010 | 0.9865 | 1.1354615
6203191020 | 0.9865 | 1.1354615
6203191030 | 0.9865 | 1.1354615
6203199010 | 0.5549 | 0.6386899
6203199020 | 0.5549 | 0.6386899
6203199030 | 0.5549 | 0.6386899
6203199050 | 0.37 | 0.42587
6203199080 | 0.2466 | 0.2838366
6203221000 | 1.2332 | 1.4194132
6203321000 | 0.6782 | 0.7806082
6203322010 | 1.1715 | 1.3483965
6203322020 | 1.1715 | 1.3483965
6203322030 | 1.1715 | 1.3483965
6203322040 | 1.1715 | 1.3483965
6203322050 | 1.1715 | 1.3483965
6203332010 | 0.1233 | 0.1419183
6203332020 | 0.1233 | 0.1419183
6203392010 | 0.1233 | 0.1419183
6203392020 | 0.1233 | 0.1419183
6203399010 | 0.5549 | 0.6386899
6203399030 | 0.37 | 0.42587
6203399060 | 0.2466 | 0.2838366
6203420300 | 1.0616 | 1.2219016
6203420505 | 0.7077 | 0.8145627
6203420510 | 0.9436 | 1.0860836
6203420525 | 0.9436 | 1.0860836
6203420550 | 0.9436 | 1.0860836
6203420590 | 0.9436 | 1.0860836
6203420703 | 1.0616 | 1.2219016
6203420706 | 1.1796 | 1.3577196
6203420711 | 1.1796 | 1.3577196
6203420716 | 0.9436 | 1.0860836
6203420721 | 1.1796 | 1.3577196
6203420726 | 1.1796 | 1.3577196
6203420731 | 1.1796 | 1.3577196
6203420736 | 1.1796 | 1.3577196
6203420741 | 0.9436 | 1.0860836
6203420746 | 0.9436 | 1.0860836
6203420751 | 0.8752 | 1.0073552
6203420756 | 0.8752 | 1.0073552
6203420761 | 0.8752 | 1.0073552
6203421700 | 1.0616 | 1.2219016
6203422505 | 0.7077 | 0.8145627
6203422510 | 0.9436 | 1.0860836
6203422525 | 0.9436 | 1.0860836
6203422550 | 0.9436 | 1.0860836
6203422590 | 0.9436 | 1.0860836
6203424503 | 1.0616 | 1.2219016
6203424506 | 1.1796 | 1.3577196
6203424511 | 1.1796 | 1.3577196
6203424516 | 0.9436 | 1.0860836
6203424521 | 1.1796 | 1.3577196
6203424526 | 1.1796 | 1.3577196
6203424531 | 1.1796 | 1.3577196
6203424536 | 1.1796 | 1.3577196
6203424541 | 0.9436 | 1.0860836
6203424546 | 0.9436 | 1.0860836
6203424551 | 0.8752 | 1.0073552
6203424556 | 0.8752 | 1.0073552
6203424561 | 0.8752 | 1.0073552
6203430100 | 0.1887 | 0.2171937
6203430300 | 0.118 | 0.135818
6203430505 | 0.118 | 0.135818
6203430510 | 0.2359 | 0.2715209
6203430525 | 0.2359 | 0.2715209
6203430550 | 0.2359 | 0.2715209
6203430590 | 0.2359 | 0.2715209
6203431110 | 0.059 | 0.067909
6203431190 | 0.059 | 0.067909
6203431310 | 0.1167 | 0.1343217
6203431315 | 0.1167 | 0.1343217
6203431320 | 0.1167 | 0.1343217
6203431330 | 0.1167 | 0.1343217
6203431335 | 0.1167 | 0.1343217
6203431340 | 0.1167 | 0.1343217
6203434500 | 0.1887 | 0.2171937
6203435500 | 0.118 | 0.135818
6203436005 | 0.118 | 0.135818
6203436010 | 0.2359 | 0.2715209
6203436025 | 0.2359 | 0.2715209
6203436050 | 0.2359 | 0.2715209
6203436090 | 0.2359 | 0.2715209
6203436500 | 0.4128 | 0.4751328
6203437510 | 0.059 | 0.067909
6203437590 | 0.059 | 0.067909
6203439010 | 0.1167 | 0.1343217
6203439015 | 0.1167 | 0.1343217
6203439020 | 0.1167 | 0.1343217
6203439030 | 0.1167 | 0.1343217
6203439035 | 0.1167 | 0.1343217
6203439040 | 0.1167 | 0.1343217
6203490105 | 0.118 | 0.135818
6203490110 | 0.2359 | 0.2715209
6203490125 | 0.2359 | 0.2715209
6203490150 | 0.2359 | 0.2715209
6203490190 | 0.2359 | 0.2715209
6203490515 | 0.2359 | 0.2715209
6203490520 | 0.2359 | 0.2715209
6203490530 | 0.118 | 0.135818
6203490545 | 0.118 | 0.135818
6203490550 | 0.118 | 0.135818
6203490560 | 0.118 | 0.135818
6203490920 | 0.5308 | 0.6109508
6203490930 | 0.3539 | 0.4073389
6203490945 | 0.2359 | 0.2715209
6203492505 | 0.118 | 0.135818
6203492510 | 0.2359 | 0.2715209
6203492525 | 0.2359 | 0.2715209
6203492550 | 0.2359 | 0.2715209
6203492590 | 0.2359 | 0.2715209
6203493500 | 0.4128 | 0.4751328
6203495015 | 0.2359 | 0.2715209
6203495020 | 0.2359 | 0.2715209
6203495030 | 0.118 | 0.135818
6203495045 | 0.118 | 0.135818
6203495050 | 0.118 | 0.135818
6203495060 | 0.118 | 0.135818
6203499020 | 0.5308 | 0.6109508
6203499030 | 0.3539 | 0.4073389
6203499045 | 0.2359 | 0.2715209
6204110000 | 0.0617 | 0.0710167
6204120010 | 0.9865 | 1.1354615
6204120020 | 0.9865 | 1.1354615
6204120030 | 0.9865 | 1.1354615
6204120040 | 0.9865 | 1.1354615
6204132010 | 0.1233 | 0.1419183
6204132020 | 0.1233 | 0.1419183
6204192000 | 0.1233 | 0.1419183
6204198010 | 0.5549 | 0.6386899
6204198020 | 0.5549 | 0.6386899
6204198030 | 0.5549 | 0.6386899
6204198040 | 0.5549 | 0.6386899
6204198060 | 0.3083 | 0.3548533
6204198090 | 0.2466 | 0.2838366
6204221000 | 1.2332 | 1.4194132
6204321000 | 0.6782 | 0.7806082
6204322010 | 1.1715 | 1.3483965
6204322020 | 1.1715 | 1.3483965
6204322030 | 0.9865 | 1.1354615
6204322040 | 0.9865 | 1.1354615
6204398010 | 0.5549 | 0.6386899
6204398030 | 0.3083 | 0.3548533
6204412010 | 0.0603 | 0.0694053
6204412020 | 0.0603 | 0.0694053
6204421000 | 1.2058 | 1.3878758
6204422000 | 0.6632 | 0.7633432
6204423010 | 1.2058 | 1.3878758
6204423020 | 1.2058 | 1.3878758
6204423030 | 0.9043 | 1.0408493
6204423040 | 0.9043 | 1.0408493
6204423050 | 0.9043 | 1.0408493
6204423060 | 0.9043 | 1.0408493
6204431000 | 0.4823 | 0.5551273
6204432000 | 0.0603 | 0.0694053
6204442000 | 0.4316 | 0.4967716
6204495010 | 0.5549 | 0.6386899
6204495030 | 0.2466 | 0.2838366
6204510010 | 0.0631 | 0.0726281
6204510020 | 0.0631 | 0.0726281
6204521000 | 1.2618 | 1.4523318
6204522010 | 1.1988 | 1.3798188
6204522020 | 1.1988 | 1.3798188
6204522030 | 1.1988 | 1.3798188
6204522040 | 1.1988 | 1.3798188
6204522070 | 1.0095 | 1.1619345
6204522080 | 1.0095 | 1.1619345
6204531000 | 0.4416 | 0.5082816
6204532010 | 0.0631 | 0.0726281
6204532020 | 0.0631 | 0.0726281
6204533010 | 0.2524 | 0.2905124
6204533020 | 0.2524 | 0.2905124
6204591000 | 0.4416 | 0.5082816
6204594010 | 0.5678 | 0.6535378
6204594030 | 0.2524 | 0.2905124
6204594060 | 0.2524 | 0.2905124
6204610510 | 0.059 | 0.067909
6204610520 | 0.059 | 0.067909
6204611510 | 0.059 | 0.067909
6204611520 | 0.059 | 0.067909
6204611530 | 0.059 | 0.067909
6204611540 | 0.118 | 0.135818
6204616010 | 0.059 | 0.067909
6204616020 | 0.059 | 0.067909
6204618010 | 0.059 | 0.067909
6204618020 | 0.059 | 0.067909
6204618030 | 0.059 | 0.067909
6204618040 | 0.118 | 0.135818
6204620300 | 0.8681 | 0.9991831
6204620505 | 0.7077 | 0.8145627
6204620510 | 0.9436 | 1.0860836
6204620525 | 0.9436 | 1.0860836
6204620550 | 0.9436 | 1.0860836
6204621503 | 1.0616 | 1.2219016
6204621506 | 1.1796 | 1.3577196
6204621511 | 1.1796 | 1.3577196
6204621521 | 0.9436 | 1.0860836
6204621526 | 1.1796 | 1.3577196
6204621531 | 1.1796 | 1.3577196
6204621536 | 1.1796 | 1.3577196
6204621541 | 1.1796 | 1.3577196
6204621546 | 0.9436 | 1.0860836
6204621551 | 0.9436 | 1.0860836
6204621556 | 0.9335 | 1.0744585
6204621561 | 0.9335 | 1.0744585
6204621566 | 0.9335 | 1.0744585
6204625000 | 0.8681 | 0.9991831
6204626005 | 0.7077 | 0.8145627
6204626010 | 0.9436 | 1.0860836
6204626025 | 0.9436 | 1.0860836
6204626050 | 0.9436 | 1.0860836
6204627000 | 1.1796 | 1.3577196
6204628003 | 1.0616 | 1.2219016
6204628006 | 1.1796 | 1.3577196
6204628011 | 1.1796 | 1.3577196
6204628021 | 0.9436 | 1.0860836
6204628026 | 1.1796 | 1.3577196
6204628031 | 1.1796 | 1.3577196
6204628036 | 1.1796 | 1.3577196
6204628041 | 1.1796 | 1.3577196
6204628046 | 0.9436 | 1.0860836
6204628051 | 0.9436 | 1.0860836
6204628056 | 0.9335 | 1.0744585
6204628061 | 0.9335 | 1.0744585
6204628066 | 0.9335 | 1.0744585
6204630100 | 0.2019 | 0.2323869
6204630200 | 0.118 | 0.135818
6204630305 | 0.118 | 0.135818
6204630310 | 0.2359 | 0.2715209
6204630325 | 0.2359 | 0.2715209
6204630350 | 0.2359 | 0.2715209
6204630810 | 0.059 | 0.067909
6204630820 | 0.059 | 0.067909
6204630910 | 0.0603 | 0.0694053
6204630990 | 0.0603 | 0.0694053
6204631110 | 0.2412 | 0.2776212
6204631125 | 0.2412 | 0.2776212
6204631130 | 0.2412 | 0.2776212
6204631132 | 0.2309 | 0.2657659
6204631135 | 0.2309 | 0.2657659
6204631140 | 0.2309 | 0.2657659
6204635000 | 0.2019 | 0.2323869
6204635500 | 0.118 | 0.135818
6204636005 | 0.118 | 0.135818
6204636010 | 0.2359 | 0.2715209
6204636025 | 0.2359 | 0.2715209
6204636050 | 0.2359 | 0.2715209
6204636500 | 0.4718 | 0.5430418
6204637010 | 0.059 | 0.067909
6204637020 | 0.059 | 0.067909
6204637510 | 0.0603 | 0.0694053
6204637590 | 0.0603 | 0.0694053
6204639010 | 0.2412 | 0.2776212
6204639025 | 0.2412 | 0.2776212
6204639030 | 0.2412 | 0.2776212
6204639032 | 0.2309 | 0.2657659
6204639035 | 0.2309 | 0.2657659
6204639040 | 0.2309 | 0.2657659
6204690105 | 0.118 | 0.135818
6204690110 | 0.2359 | 0.2715209
6204690110 | 0.2359 | 0.2715209
6204690125 | 0.2359 | 0.2715209
6204690150 | 0.2359 | 0.2715209
6204690210 | 0.059 | 0.067909
6204690220 | 0.059 | 0.067909
6204690230 | 0.059 | 0.067909
6204690310 | 0.2359 | 0.2715209
6204690320 | 0.2359 | 0.2715209
6204690330 | 0.2359 | 0.2715209
6204690340 | 0.2309 | 0.2657659
6204690350 | 0.2309 | 0.2657659
6204690360 | 0.2309 | 0.2657659
6204690510 | 0.5308 | 0.6109508
6204690530 | 0.2359 | 0.2715209
6204690570 | 0.3539 | 0.4073389
6204690610 | 0.5308 | 0.6109508
6204690630 | 0.2359 | 0.2715209
6204690644 | 0.2359 | 0.2715209
6204690646 | 0.2359 | 0.2715209
6204690650 | 0.3539 | 0.4073389
6204691505 | 0.118 | 0.135818
6204691510 | 0.2359 | 0.2715209
6204691525 | 0.2359 | 0.2715209
6204691525 | 0.2359 | 0.2715209
6204691550 | 0.2359 | 0.2715209
6204692210 | 0.059 | 0.067909
6204692220 | 0.059 | 0.067909
6204692230 | 0.059 | 0.067909
6204692810 | 0.2359 | 0.2715209
6204692820 | 0.2359 | 0.2715209
6204692830 | 0.2359 | 0.2715209
6204692840 | 0.2309 | 0.2657659
6204692850 | 0.2309 | 0.2657659
6204692860 | 0.2309 | 0.2657659
6204696510 | 0.5308 | 0.6109508
6204696530 | 0.2359 | 0.2715209
6204696570 | 0.3539 | 0.4073389
6204698010 | 0.5308 | 0.6109508
6204698030 | 0.2359 | 0.2715209
6204698044 | 0.2359 | 0.2715209
6204698046 | 0.2359 | 0.2715209
6204698050 | 0.3539 | 0.4073389
6205201000 | 1.1796 | 1.3577196
6205202003 | 0.9436 | 1.0860836
6205202016 | 0.9436 | 1.0860836
6205202021 | 0.9436 | 1.0860836
6205202026 | 0.9436 | 1.0860836
6205202031 | 0.9436 | 1.0860836
6205202036 | 1.0616 | 1.2219016
6205202041 | 1.0616 | 1.2219016
6205202044 | 1.0616 | 1.2219016
6205202047 | 0.9436 | 1.0860836
6205202051 | 0.9436 | 1.0860836
6205202056 | 0.9436 | 1.0860836
6205202061 | 0.9436 | 1.0860836
6205202066 | 0.9436 | 1.0860836
6205202071 | 0.9436 | 1.0860836
6205202076 | 0.9436 | 1.0860836
6205301000 | 0.4128 | 0.4751328
6205302010 | 0.2949 | 0.3394299
6205302020 | 0.2949 | 0.3394299
6205302030 | 0.2949 | 0.3394299
6205302040 | 0.2949 | 0.3394299
6205302050 | 0.2949 | 0.3394299
6205302055 | 0.2949 | 0.3394299
6205302060 | 0.2949 | 0.3394299
6205302070 | 0.2949 | 0.3394299
6205302075 | 0.2949 | 0.3394299
6205302080 | 0.2949 | 0.3394299
6205900710 | 0.118 | 0.135818
6205900720 | 0.118 | 0.135818
6205901000 | 0.2359 | 0.2715209
6205903010 | 0.5308 | 0.6109508
6205903030 | 0.2359 | 0.2715209
6205903050 | 0.1769 | 0.2036119
6205904010 | 0.5308 | 0.6109508
6205904030 | 0.2359 | 0.2715209
6205904040 | 0.2359 | 0.2715209
6206100010 | 0.5308 | 0.6109508
6206100030 | 0.2359 | 0.2715209
6206100040 | 0.118 | 0.135818
6206100050 | 0.2359 | 0.2715209
6206203010 | 0.059 | 0.067909
6206203020 | 0.059 | 0.067909
6206301000 | 1.1796 | 1.3577196
6206302000 | 0.6488 | 0.7467688
6206303003 | 0.9436 | 1.0860836
6206303011 | 0.9436 | 1.0860836
6206303021 | 0.9436 | 1.0860836
6206303031 | 0.9436 | 1.0860836
6206303041 | 0.9436 | 1.0860836
6206303051 | 0.9436 | 1.0860836
6206303061 | 0.9436 | 1.0860836
6206401000 | 0.4128 | 0.4751328
6206403010 | 0.2949 | 0.3394299
6206403020 | 0.2949 | 0.3394299
6206403025 | 0.2949 | 0.3394299
6206403030 | 0.2949 | 0.3394299
6206403040 | 0.2949 | 0.3394299
6206403050 | 0.2949 | 0.3394299
6206900010 | 0.5308 | 0.6109508
6206900030 | 0.2359 | 0.2715209
6206900040 | 0.1769 | 0.2036119
6207110000 | 1.0281 | 1.1833431
6207199010 | 0.3427 | 0.3944477
6207199030 | 0.4569 | 0.5258919
6207210010 | 1.0502 | 1.2087802
6207210020 | 1.0502 | 1.2087802
6207210030 | 1.0502 | 1.2087802
6207210040 | 1.0502 | 1.2087802
6207220000 | 0.3501 | 0.4029651
6207291000 | 0.1167 | 0.1343217
6207299030 | 0.1167 | 0.1343217
6207911000 | 1.0852 | 1.2490652
6207913010 | 1.0852 | 1.2490652
6207913020 | 1.0852 | 1.2490652
6207997520 | 0.2412 | 0.2776212
6207998510 | 0.2412 | 0.2776212
6207998520 | 0.2412 | 0.2776212
6208110000 | 0.2412 | 0.2776212
6208192000 | 1.0852 | 1.2490652
6208195000 | 0.1206 | 0.1388106
6208199000 | 0.2412 | 0.2776212
6208210010 | 1.0026 | 1.1539926
6208210020 | 1.0026 | 1.1539926
6208210030 | 1.0026 | 1.1539926
6208220000 | 0.118 | 0.135818
6208299030 | 0.2359 | 0.2715209
6208911010 | 1.0852 | 1.2490652
6208911020 | 1.0852 | 1.2490652
6208913010 | 1.0852 | 1.2490652
6208913020 | 1.0852 | 1.2490652
6208920010 | 0.1206 | 0.1388106
6208920020 | 0.1206 | 0.1388106
6208920030 | 0.1206 | 0.1388106
6208920040 | 0.1206 | 0.1388106
6208992010 | 0.0603 | 0.0694053
6208992020 | 0.0603 | 0.0694053
6208995010 | 0.2412 | 0.2776212
6208995020 | 0.2412 | 0.2776212
6208998010 | 0.2412 | 0.2776212
6208998020 | 0.2412 | 0.2776212
6209201000 | 1.0967 | 1.2623017
6209202000 | 1.039 | 1.195889
6209203000 | 0.9236 | 1.0630636
6209205030 | 0.9236 | 1.0630636
6209205035 | 0.9236 | 1.0630636
6209205045 | 0.9236 | 1.0630636
6209205050 | 0.9236 | 1.0630636
6209301000 | 0.2917 | 0.3357467
6209302000 | 0.2917 | 0.3357467
6209303010 | 0.2334 | 0.2686434
6209303020 | 0.2334 | 0.2686434
6209303030 | 0.2334 | 0.2686434
6209303040 | 0.2334 | 0.2686434
6209900500 | 0.1154 | 0.1328254
6209901000 | 0.2917 | 0.3357467
6209902000 | 0.2917 | 0.3357467
6209903010 | 0.2917 | 0.3357467
6209903015 | 0.2917 | 0.3357467
6209903020 | 0.2917 | 0.3357467
6209903030 | 0.2917 | 0.3357467
6209903040 | 0.2917 | 0.3357467
6210109010 | 0.217 | 0.249767
6210109040 | 0.217 | 0.249767
6210203000 | 0.0362 | 0.0416662
6210205000 | 0.0844 | 0.0971444
6210207000 | 0.1809 | 0.2082159
6210303000 | 0.0362 | 0.0416662
6210305000 | 0.0844 | 0.0971444
6210307000 | 0.0362 | 0.0416662
6210309020 | 0.422 | 0.485722
6210401500 | 0.037 | 0.042587
6210402520 | 0.4316 | 0.4967716
6210402531 | 0.0863 | 0.0993313
6210402539 | 0.0863 | 0.0993313
6210402540 | 0.4316 | 0.4967716
6210402550 | 0.4316 | 0.4967716
6210402800 | 0.111 | 0.127761
6210402925 | 0.111 | 0.127761
6210402933 | 0.111 | 0.127761
6210402945 | 0.111 | 0.127761
6210402960 | 0.111 | 0.127761
6210403500 | 0.037 | 0.042587
6210405520 | 0.4316 | 0.4967716
6210405531 | 0.0863 | 0.0993313
6210405539 | 0.0863 | 0.0993313
6210405540 | 0.4316 | 0.4967716
6210405550 | 0.4316 | 0.4967716
6210407500 | 0.111 | 0.127761
6210408025 | 0.111 | 0.127761
6210408033 | 0.111 | 0.127761
6210408045 | 0.111 | 0.127761
6210408060 | 0.111 | 0.127761
6210500300 | 0.037 | 0.042587
6210500520 | 0.0863 | 0.0993313
6210500531 | 0.0863 | 0.0993313
6210500539 | 0.0863 | 0.0993313
6210500540 | 0.0863 | 0.0993313
6210500555 | 0.0863 | 0.0993313
6210501200 | 0.4316 | 0.4967716
6210502250 | 0.148 | 0.170348
6210502260 | 0.148 | 0.170348
6210502270 | 0.148 | 0.170348
6210502290 | 0.148 | 0.170348
6210503500 | 0.037 | 0.042587
6210505520 | 0.0863 | 0.0993313
6210505531 | 0.0863 | 0.0993313
6210505539 | 0.0863 | 0.0993313
6210505540 | 0.0863 | 0.0993313
6210505555 | 0.0863 | 0.0993313
6210507500 | 0.4316 | 0.4967716
6210508050 | 0.148 | 0.170348
6210508060 | 0.148 | 0.170348
6210508070 | 0.148 | 0.170348
6210508090 | 0.148 | 0.170348
6211111010 | 0.1206 | 0.1388106
6211111020 | 0.1206 | 0.1388106
6211118010 | 1.0852 | 1.2490652
6211118020 | 1.0852 | 1.2490652
6211118040 | 0.2412 | 0.2776212
6211121010 | 0.0603 | 0.0694053
6211121020 | 0.0603 | 0.0694053
6211128010 | 1.0852 | 1.2490652
6211128020 | 1.0852 | 1.2490652
6211128030 | 0.6029 | 0.6939379
6211200410 | 0.7717 | 0.8882267
6211200420 | 0.0965 | 0.1110715
6211200430 | 0.7717 | 0.8882267
6211200440 | 0.0965 | 0.1110715
6211200810 | 0.3858 | 0.4440558
6211200820 | 0.3858 | 0.4440558
6211201510 | 0.7615 | 0.8764865
6211201515 | 0.2343 | 0.2696793
6211201520 | 0.6443 | 0.7415893
6211201525 | 0.2929 | 0.3371279
6211201530 | 0.7615 | 0.8764865
6211201535 | 0.3515 | 0.4045765
6211201540 | 0.7615 | 0.8764865
6211201545 | 0.2929 | 0.3371279
6211201550 | 0.7615 | 0.8764865
6211201555 | 0.41 | 0.47191
6211201560 | 0.7615 | 0.8764865
6211201565 | 0.2343 | 0.2696793
6211202400 | 0.1233 | 0.1419183
6211202810 | 0.8016 | 0.9226416
6211202820 | 0.2466 | 0.2838366
6211202830 | 0.3083 | 0.3548533
6211203400 | 0.1233 | 0.1419183
6211203810 | 0.8016 | 0.9226416
6211203820 | 0.2466 | 0.2838366
6211203830 | 0.3083 | 0.3548533
6211204400 | 0.1233 | 0.1419183
6211204815 | 0.8016 | 0.9226416
6211204835 | 0.2466 | 0.2838366
6211204860 | 0.3083 | 0.3548533
6211205400 | 0.1233 | 0.1419183
6211205810 | 0.8016 | 0.9226416
6211205820 | 0.2466 | 0.2838366
6211205830 | 0.3083 | 0.3548533
6211206400 | 0.1233 | 0.1419183
6211206810 | 0.8016 | 0.9226416
6211206820 | 0.2466 | 0.2838366
6211206830 | 0.3083 | 0.3548533
6211207400 | 0.1233 | 0.1419183
6211207810 | 0.9249 | 1.0645599
6211207820 | 0.2466 | 0.2838366
6211207830 | 0.3083 | 0.3548533
6211325003 | 0.6412 | 0.7380212
6211325007 | 0.8016 | 0.9226416
6211325010 | 0.9865 | 1.1354615
6211325015 | 0.9865 | 1.1354615
6211325025 | 0.9865 | 1.1354615
6211325030 | 0.9249 | 1.0645599
6211325040 | 0.9249 | 1.0645599
6211325050 | 0.9249 | 1.0645599
6211325060 | 0.9249 | 1.0645599
6211325070 | 0.9249 | 1.0645599
6211325075 | 0.9249 | 1.0645599
6211325081 | 0.9249 | 1.0645599
6211329003 | 0.6412 | 0.7380212
6211329007 | 0.8016 | 0.9226416
6211329010 | 0.9865 | 1.1354615
6211329015 | 0.9865 | 1.1354615
6211329025 | 0.9865 | 1.1354615
6211329030 | 0.9249 | 1.0645599
6211329040 | 0.9249 | 1.0645599
6211329050 | 0.9249 | 1.0645599
6211329060 | 0.9249 | 1.0645599
6211329070 | 0.9249 | 1.0645599
6211329075 | 0.9249 | 1.0645599
6211329081 | 0.9249 | 1.0645599
6211335003 | 0.0987 | 0.1136037
6211335007 | 0.1233 | 0.1419183
6211335010 | 0.3083 | 0.3548533
6211335015 | 0.3083 | 0.3548533
6211335017 | 0.3083 | 0.3548533
6211335025 | 0.37 | 0.42587
6211335030 | 0.37 | 0.42587
6211335035 | 0.37 | 0.42587
6211335040 | 0.37 | 0.42587
6211335054 | 0.37 | 0.42587
6211335058 | 0.37 | 0.42587
6211335061 | 0.37 | 0.42587
6211339003 | 0.0987 | 0.1136037
6211339007 | 0.1233 | 0.1419183
6211339010 | 0.3083 | 0.3548533
6211339015 | 0.3083 | 0.3548533
6211339017 | 0.3083 | 0.3548533
6211339025 | 0.37 | 0.42587
6211339030 | 0.37 | 0.42587
6211339035 | 0.37 | 0.42587
6211339040 | 0.37 | 0.42587
6211339054 | 0.37 | 0.42587
6211339058 | 0.37 | 0.42587
6211339061 | 0.37 | 0.42587
6211390310 | 0.1233 | 0.1419183
6211390320 | 0.1233 | 0.1419183
6211390330 | 0.1233 | 0.1419183
6211390340 | 0.1233 | 0.1419183
6211390345 | 0.1233 | 0.1419183
6211390351 | 0.1233 | 0.1419183
6211391510 | 0.2466 | 0.2838366
6211391520 | 0.2466 | 0.2838366
6211391530 | 0.2466 | 0.2838366
6211391540 | 0.2466 | 0.2838366
6211391550 | 0.2466 | 0.2838366
6211391560 | 0.2466 | 0.2838366
6211391570 | 0.2466 | 0.2838366
6211391590 | 0.2466 | 0.2838366
6211393010 | 0.1233 | 0.1419183
6211393020 | 0.1233 | 0.1419183
6211393030 | 0.1233 | 0.1419183
6211393040 | 0.1233 | 0.1419183
6211393045 | 0.1233 | 0.1419183
6211393051 | 0.1233 | 0.1419183
6211398010 | 0.2466 | 0.2838366
6211398020 | 0.2466 | 0.2838366
6211398030 | 0.2466 | 0.2838366
6211398040 | 0.2466 | 0.2838366
6211398050 | 0.2466 | 0.2838366
6211398060 | 0.2466 | 0.2838366
6211398070 | 0.2466 | 0.2838366
6211398090 | 0.2466 | 0.2838366
6211420503 | 0.6412 | 0.7380212
6211420507 | 0.8016 | 0.9226416
6211420510 | 0.9865 | 1.1354615
6211420520 | 0.9865 | 1.1354615
6211420525 | 1.1099 | 1.2774949
6211420530 | 0.8632 | 0.9935432
6211420540 | 0.9865 | 1.1354615
6211420554 | 1.1099 | 1.2774949
6211420556 | 1.1099 | 1.2774949
6211420560 | 0.9865 | 1.1354615
6211420570 | 1.1099 | 1.2774949
6211420575 | 1.1099 | 1.2774949
6211420581 | 1.1099 | 1.2774949
6211421003 | 0.6412 | 0.7380212
6211421007 | 0.8016 | 0.9226416
6211421010 | 0.9865 | 1.1354615
6211421020 | 0.9865 | 1.1354615
6211421025 | 1.1099 | 1.2774949
6211421030 | 0.8632 | 0.9935432
6211421040 | 0.9865 | 1.1354615
6211421054 | 1.1099 | 1.2774949
6211421056 | 1.1099 | 1.2774949
6211421060 | 0.9865 | 1.1354615
6211421070 | 1.1099 | 1.2774949
6211421075 | 1.1099 | 1.2774949
6211421081 | 1.1099 | 1.2774949
6211430503 | 0.0987 | 0.1136037
6211430507 | 0.1233 | 0.1419183
6211430510 | 0.2466 | 0.2838366
6211430520 | 0.2466 | 0.2838366
6211430530 | 0.2466 | 0.2838366
6211430540 | 0.2466 | 0.2838366
6211430550 | 0.2466 | 0.2838366
6211430560 | 0.2466 | 0.2838366
6211430564 | 0.3083 | 0.3548533
6211430566 | 0.2466 | 0.2838366
6211430574 | 0.3083 | 0.3548533
6211430576 | 0.37 | 0.42587
6211430578 | 0.37 | 0.42587
6211430591 | 0.2466 | 0.2838366
6211431003 | 0.0987 | 0.1136037
6211431007 | 0.1233 | 0.1419183
6211431010 | 0.2466 | 0.2838366
6211431020 | 0.2466 | 0.2838366
6211431030 | 0.2466 | 0.2838366
6211431040 | 0.2466 | 0.2838366
6211431050 | 0.2466 | 0.2838366
6211431060 | 0.2466 | 0.2838366
6211431064 | 0.3083 | 0.3548533
6211431066 | 0.2466 | 0.2838366
6211431074 | 0.3083 | 0.3548533
6211431076 | 0.37 | 0.42587
6211431078 | 0.37 | 0.42587
6211431091 | 0.2466 | 0.2838366
6211492510 | 0.2466 | 0.2838366
6211492520 | 0.2466 | 0.2838366
6211492530 | 0.2466 | 0.2838366
6211492540 | 0.2466 | 0.2838366
6211492550 | 0.2466 | 0.2838366
6211492560 | 0.2466 | 0.2838366
6211492570 | 0.2466 | 0.2838366
6211492580 | 0.2466 | 0.2838366
6211492590 | 0.2466 | 0.2838366
6211498010 | 0.2466 | 0.2838366
6211498020 | 0.2466 | 0.2838366
6211498030 | 0.2466 | 0.2838366
6211498040 | 0.2466 | 0.2838366
6211498050 | 0.2466 | 0.2838366
6211498060 | 0.2466 | 0.2838366
6211498070 | 0.2466 | 0.2838366
6211498080 | 0.2466 | 0.2838366
6211498090 | 0.2466 | 0.2838366
6212105010 | 0.9138 | 1.0517838
6212105020 | 0.2285 | 0.2630035
6212105030 | 0.2285 | 0.2630035
6212109010 | 0.9138 | 1.0517838
6212109020 | 0.2285 | 0.2630035
6212109040 | 0.2285 | 0.2630035
6212200010 | 0.6854 | 0.7888954
6212200020 | 0.2856 | 0.3287256
6212200030 | 0.1142 | 0.1314442
6212300010 | 0.6854 | 0.7888954
6212300020 | 0.2856 | 0.3287256
6212300030 | 0.1142 | 0.1314442
6212900010 | 0.1828 | 0.2104028
6212900020 | 0.1828 | 0.2104028
6212900030 | 0.1828 | 0.2104028
6212900050 | 0.0914 | 0.1052014
6212900090 | 0.4112 | 0.4732912
6213201000 | 1.1187 | 1.2876237
6213202000 | 1.0069 | 1.1589419
6213900700 | 0.4475 | 0.5150725
6213901000 | 0.4475 | 0.5150725
6213902000 | 0.3356 | 0.3862756
6214300000 | 0.1142 | 0.1314442
6214400000 | 0.1142 | 0.1314442
6214900010 | 0.8567 | 0.9860617
6214900090 | 0.2285 | 0.2630035
6215100025 | 0.1142 | 0.1314442
6215200000 | 0.1142 | 0.1314442
6215900015 | 1.0281 | 1.1833431
6216000800 | 0.0685 | 0.0788435
6216001300 | 0.3427 | 0.3944477
6216001720 | 0.6397 | 0.7362947
6216001730 | 0.1599 | 0.1840449
6216001900 | 0.3427 | 0.3944477
6216002110 | 0.578 | 0.665278
6216002120 | 0.2477 | 0.2851027
6216002410 | 0.6605 | 0.7602355
6216002425 | 0.1651 | 0.1900301
6216002600 | 0.1651 | 0.1900301
6216002910 | 0.6605 | 0.7602355
6216002925 | 0.1651 | 0.1900301
6216003100 | 0.1651 | 0.1900301
6216003300 | 0.5898 | 0.6788598
6216003500 | 0.5898 | 0.6788598
6216003800 | 1.1796 | 1.3577196
6216004100 | 1.1796 | 1.3577196
6217109510 | 0.9646 | 1.1102546
6217109520 | 0.1809 | 0.2082159
6217109530 | 0.2412 | 0.2776212
6217909003 | 0.9646 | 1.1102546
6217909005 | 0.1809 | 0.2082159
6217909010 | 0.2412 | 0.2776212
6217909025 | 0.9646 | 1.1102546
6217909030 | 0.1809 | 0.2082159
6217909035 | 0.2412 | 0.2776212
6217909050 | 0.9646 | 1.1102546
6217909055 | 0.1809 | 0.2082159
6217909060 | 0.2412 | 0.2776212
6217909075 | 0.9646 | 1.1102546
6217909080 | 0.1809 | 0.2082159
6217909085 | 0.2412 | 0.2776212
6301300010 | 0.8305 | 0.9559055
6301300020 | 0.8305 | 0.9559055
6301900030 | 0.2215 | 0.2549465
6302100005 | 1.1073 | 1.2745023
6302100008 | 1.1073 | 1.2745023
6302100015 | 1.1073 | 1.2745023
6302213010 | 1.1073 | 1.2745023
6302213020 | 1.1073 | 1.2745023
6302213030 | 1.1073 | 1.2745023
6302213040 | 1.1073 | 1.2745023
6302213050 | 1.1073 | 1.2745023
6302215010 | 0.7751 | 0.8921401
6302215020 | 0.7751 | 0.8921401
6302215030 | 0.7751 | 0.8921401
6302215040 | 0.7751 | 0.8921401
6302215050 | 0.7751 | 0.8921401
6302217010 | 1.1073 | 1.2745023
6302217020 | 1.1073 | 1.2745023
6302217030 | 1.1073 | 1.2745023
6302217040 | 1.1073 | 1.2745023
6302217050 | 1.1073 | 1.2745023
6302219010 | 0.7751 | 0.8921401
6302219020 | 0.7751 | 0.8921401
6302219030 | 0.7751 | 0.8921401
6302219040 | 0.7751 | 0.8921401
6302219050 | 0.7751 | 0.8921401
6302221010 | 0.5537 | 0.6373087
6302221020 | 0.3876 | 0.4461276
6302221030 | 0.5537 | 0.6373087
6302221040 | 0.3876 | 0.4461276
6302221050 | 0.3876 | 0.4461276
6302221060 | 0.3876 | 0.4461276
6302222010 | 0.3876 | 0.4461276
6302222020 | 0.3876 | 0.4461276
6302222030 | 0.3876 | 0.4461276
6302290020 | 0.2215 | 0.2549465
6302313010 | 1.1073 | 1.2745023
6302313020 | 1.1073 | 1.2745023
6302313030 | 1.1073 | 1.2745023
6302313040 | 1.1073 | 1.2745023
6302313050 | 1.1073 | 1.2745023
6302315010 | 0.7751 | 0.8921401
6302315020 | 0.7751 | 0.8921401
6302315030 | 0.7751 | 0.8921401
6302315040 | 0.7751 | 0.8921401
6302315050 | 0.7751 | 0.8921401
6302317010 | 1.1073 | 1.2745023
6302317020 | 1.1073 | 1.2745023
6302317030 | 1.1073 | 1.2745023
6302317040 | 1.1073 | 1.2745023
6302317050 | 1.1073 | 1.2745023
6302319010 | 0.7751 | 0.8921401
6302319020 | 0.7751 | 0.8921401
6302319030 | 0.7751 | 0.8921401
6302319040 | 0.7751 | 0.8921401
6302319050 | 0.7751 | 0.8921401
6302321010 | 0.5537 | 0.6373087
6302321020 | 0.3876 | 0.4461276
6302321030 | 0.5537 | 0.6373087
6302321040 | 0.3876 | 0.4461276
6302321050 | 0.3876 | 0.4461276
6302321060 | 0.3876 | 0.4461276
6302322010 | 0.5537 | 0.6373087
6302322020 | 0.3876 | 0.4461276
6302322030 | 0.5537 | 0.6373087
6302322040 | 0.3876 | 0.4461276
6302322050 | 0.3876 | 0.4461276
6302322060 | 0.3876 | 0.4461276
6302390030 | 0.2215 | 0.2549465
6302402010 | 0.9412 | 1.0833212
6302511000 | 0.5537 | 0.6373087
6302512000 | 0.8305 | 0.9559055
6302513000 | 0.5537 | 0.6373087
6302514000 | 0.7751 | 0.8921401
6302593020 | 0.5537 | 0.6373087
6302600010 | 1.1073 | 1.2745023
6302600020 | 0.9966 | 1.1470866
6302600030 | 0.9966 | 1.1470866
6302910005 | 0.9966 | 1.1470866
6302910015 | 1.1073 | 1.2745023
6302910025 | 0.9966 | 1.1470866
6302910035 | 0.9966 | 1.1470866
6302910045 | 0.9966 | 1.1470866
6302910050 | 0.9966 | 1.1470866
6302910060 | 0.9966 | 1.1470866
6302931000 | 0.4429 | 0.5097779
6302932000 | 0.4429 | 0.5097779
6302992000 | 0.2215 | 0.2549465
6303191100 | 0.8859 | 1.0196709
6303910010 | 0.609 | 0.700959
6303910020 | 0.609 | 0.700959
6303921000 | 0.2768 | 0.3185968
6303922010 | 0.2768 | 0.3185968
6303922030 | 0.2768 | 0.3185968
6303922050 | 0.2768 | 0.3185968
6303990010 | 0.2768 | 0.3185968
6304111000 | 0.9966 | 1.1470866
6304113000 | 0.1107 | 0.1274157
6304190500 | 0.9966 | 1.1470866
6304191000 | 1.1073 | 1.2745023
6304191500 | 0.3876 | 0.4461276
6304192000 | 0.3876 | 0.4461276
6304193060 | 0.2215 | 0.2549465
6304910020 | 0.8859 | 1.0196709
6304910070 | 0.2215 | 0.2549465
6304920000 | 0.8859 | 1.0196709
6304996040 | 0.2215 | 0.2549465
6505001515 | 1.1189 | 1.2878539
6505001525 | 0.5594 | 0.6438694
6505001540 | 1.1189 | 1.2878539
6505002030 | 0.9412 | 1.0833212
6505002060 | 0.9412 | 1.0833212
6505002545 | 0.5537 | 0.6373087
6507000000 | 0.3986 | 0.4587886
9404901000 | 0.2104 | 0.2421704
9404908020 | 0.9966 | 1.1470866
9404908040 | 0.9966 | 1.1470866
9404908505 | 0.6644 | 0.7647244
9404908536 | 0.0997 | 0.1147547
9404909505 | 0.6644 | 0.7647244
9404909570 | 0.2658 | 0.3059358
9619002100 | 0.8681 | 0.9991831
9619002500 | 0.1085 | 0.1248835
9619003100 | 0.9535 | 1.0974785
9619003300 | 1.1545 | 1.3288295
9619004100 | 0.2384 | 0.2743984
9619004300 | 0.2384 | 0.2743984
9619006100 | 0.8528 | 0.9815728
9619006400 | 0.2437 | 0.2804987
9619006800 | 0.3655 | 0.4206905
9619007100 | 1.1099 | 1.2774949
9619007400 | 0.2466 | 0.2838366
9619007800 | 0.2466 | 0.2838366
9619007900 | 0.2466 | 0.2838366

* * * * *

Authority: 7 U.S.C. 2101-2118.

Dated: August 30, 2017.
Bruce Summers,
Acting Administrator.

[FR Doc. 2017-18758 Filed 9-1-17; 8:45 am]

BILLING CODE 3410-02-P